DEPARTMENT OF AGRICULTURE

Agricultural Marketing Service

7 CFR Part 1205

[Doc. #AMS-CN-21-0057]

Cotton Board Rules and Regulations: Adjusting Supplemental Assessment on Imports (2020 Amendments)

AGENCY: Agricultural Marketing Service, USDA.

ACTION: Direct final rule.

SUMMARY: The Agricultural Marketing Service (AMS) is amending the Cotton Board Rules and Regulations, decreasing the value assigned to imported cotton for the purposes of calculating supplemental assessments collected for use by the Cotton Research and Promotion Program. This amendment is required each year to ensure that assessments collected on imported cotton and the cotton content of imported products will be the same as those paid on domestically produced cotton. In addition, AMS is updating the Harmonized Tariff Schedule (HTS) statistical reporting numbers that were amended since the last assessment adjustment in 2020.

DATES: This direct rule is effective October 25, 2021, without further action or notice, unless significant adverse comment is received by September 27, 2021. If significant adverse comment is received, AMS will publish a timely withdrawal of the amendment in the Federal Register.

ADDRESSES: Written comments may be submitted to the addresses specified below. All comments will be made available to the public. Please do not include personally identifiable information (such as name, address, or other contact information) or confidential business information that you do not want publicly disclosed. All comments may be posted on the internet and can be retrieved by most internet search engines. Comments may be submitted anonymously.

Comments, identified by AMS-CN-21-0057, may be submitted electronically through the Federal eRulemaking Portal at http://www.regulations.gov. Please follow the instructions for submitting comments. In addition, comments may be submitted by mail or hand delivery to Cotton Research and Promotion, Cotton and Tobacco Program, AMS, USDA, 100 Riverside Parkway, Suite 101, Fredericksburg, Virginia 22406. Comments should be submitted in triplicate. All comments received will be made available for public inspection at Cotton and Tobacco Program, AMS, USDA, 100 Riverside Parkway, Suite 101, Fredericksburg, Virginia 22406. A copy of this document may be found at: www.regulations.gov.

FOR FURTHER INFORMATION CONTACT: Shethir M. Riva, Director, Research and Promotion, Cotton and Tobacco Program, AMS, USDA, 100 Riverside Parkway, Suite 101, Fredericksburg, Virginia 22406, telephone (540) 361-2726, facsimile (540) 361-1199, or email at CottonRP@usda.gov.

SUPPLEMENTARY INFORMATION:

A. Background

Amendments to the Cotton Research and Promotion Act (7 U.S.C. 2101-2118) (Act) were enacted by Congress under Subtitle G of Title XIX of the Food, Agriculture, Conservation, and Trade Act of 1990 (Pub. L. 101-624, 104 Stat. 3909, November 28, 1990). These amendments contained two provisions that authorized changes in funding procedures for the Cotton Research and Promotion Program. These provisions provided for: (1) The assessment of imported cotton and cotton products; and (2) termination of refunds to cotton producers. (Prior to the 1990 amendments to the Act, producers could request assessment refunds.)

As amended, the Cotton Research and Promotion Order (7 CFR part 1205) (Order) was approved by producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This direct final rule amends the value assigned to imported cotton in the Cotton Board Rules and Regulations (7 CFR 1205.510(b)(2)) that is used to determine the Cotton Research and Promotion assessment on imported cotton and cotton products. The total value of assessment levied on cotton imports is the sum of two parts. The first part of the assessment is based on the weight of cotton imported—levied at a rate of $1 per bale of cotton, which is equivalent to 500 pounds, or $1 per 226.8 kilograms of cotton. The second part of the import assessment (referred to as the supplemental assessment) is based on the value of imported cotton lint or the cotton contained in imported cotton products—levied at a rate of five-tenths of one percent of the value of domestically produced cotton.

Section 1205.510(b)(2) of the Cotton Research and Promotion Rules and Regulations provides for assigning the calendar-year weighted-average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted-average price figure in the calculation of supplemental assessments on imported cotton and the cotton content of imported products will yield an assessment that is the same as assessments paid on domestically produced cotton.

The current value of imported cotton as published in 2020 in the Federal Register (85 FR 62545) for the purpose of calculating assessments on imported cotton is $0.011562 per kilogram. Using the average weighted price received by U.S. farmers for Upland cotton for the calendar year 2020, this direct final rule amends the new value of imported cotton to $0.011136 per kilogram to reflect the price received by U.S. farmers for Upland cotton during 2020.

An example of the complete assessment formula and how the figures are obtained is as follows:

One bale is equal to 500 pounds.

One kilogram equals 2.2046 pounds.

One pound equals 0.453597 kilograms.

One Dollar per Bale Assessment Converted to Kilograms

A 500-pound bale equals 226.8 kg. (500 × 0.453597).

$1 per bale assessment equals $0.002000 per pound or 0.2000 cents per pound (1/500) or $0.004409 per kg or 0.4409 cents per kg. (1/226.8).

Supplemental Assessment of 5/10 of One Percent of the Value of the Cotton Converted to Kilograms

The 2020 calendar-year weighted-average price received by producers for Upland cotton is $0.61 per pound or $1.345 per kg. (0.61 × 2.2046).

Five tenths of one percent of the average price equals $0.006727 per kg. (1.345 × 0.005).

Total Assessment

The total assessment per kilogram of raw cotton is obtained by adding the $1 per bale equivalent assessment of $0.004409 per kg. and the supplemental assessment $0.006727 per kg., which equals $0.011136 per kg.

The current assessment on imported cotton is $0.011562 per kilogram of imported cotton. The revised assessment in this direct final rule is $0.011136, a decrease of $0.000426 per kilogram. This reflects the decrease in the average weighted price of Upland cotton received by U.S. farmers during the period January through December 2020.

The Import Assessment Table in section 1205.510(b)(3) of the Order indicates the total assessment rate ($ per kilogram) due for each Harmonized Tariff Schedule (HTS) number that is subject to assessment. This table must be revised each year to reflect changes in supplemental assessment rates and any changes to the HTS numbers. In this direct final rule, AMS is amending the Import Assessment Table.

AMS believes that these amendments are necessary to ensure that assessments collected on imported cotton and the cotton content of imported products are the same as those paid on domestically produced cotton. Accordingly, changes reflected in this rule should be adopted and implemented as soon as possible since it is required by regulation.

As described in this Federal Register document, the amendment to the value used to determine the Cotton Research and Promotion Program importer assessment will be updated to reflect the assessment already paid by U.S. farmers. For the reasons mentioned above, AMS finds that publishing a proposed rule and seeking public comment is unnecessary because the change is required annually by regulation in 7 CFR 1205.510.

Also, this direct-final rulemaking furthers objectives of Executive Order 13563, which requires that the regulatory process “promote predictability and reduce uncertainty” and “identify and use the best, most innovative, and least burdensome tools for achieving regulatory ends.”

AMS has used the direct rule rulemaking process since 2013 and has not received any adverse comments; however, if AMS does receives significant adverse comments during the comment period, it will publish, in a timely manner, a document in the Federal Register withdrawing this direct final rule. AMS will then address public comments in a subsequent proposed rule and final rule based on the proposed rule.

B. Rulemaking Analyses

Executive Order 13175

This action has been reviewed in accordance with the requirements of Executive Order 13175, Consultation and Coordination with Indian Tribal Governments. The review reveals that this regulation would not have substantial and direct effects on Tribal governments and would not have significant Tribal implications.

Executive Orders 12866 and 13563

Executive Orders 12866 and 13563 direct agencies to assess all costs and benefits of available regulatory alternatives and, if regulation is necessary, to select regulatory approaches that maximize net benefits (including potential economic, environmental, public health, and safety effects; distributive impacts; and equity). Executive Order 13563 emphasizes the importance of quantifying both costs and benefits, reducing costs, harmonizing rules, and promoting flexibility. This action falls within a category of regulatory actions that the Office of Management and Budget (OMB) exempted from Executive Order 12866 review. Additionally, because this rule does not meet the definition of a significant regulatory action it does not trigger requirements contained in Executive Order 13771. See OMB's Memorandum titled “Interim Guidance Implementing Section 2 of the Executive Order of January 30, 2017 titled `Reducing Regulation and Controlling Regulatory Costs”' (February 2, 2017).

Executive Order 12988

This rule has been reviewed under Executive Order 12988, Civil Justice Reform. It is not intended to have retroactive effect.

The Act provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of the Secretary's ruling.

Regulatory Flexibility Act and Paperwork Reduction Act

In accordance with the Regulatory Flexibility Act (RFA) (5 U.S.C. 601-612), AMS has examined the economic impact of this rule on small entities. The purpose of the RFA is to fit regulatory actions to the scale of businesses subject to such action so that small businesses will not be unduly or disproportionately burdened. The Small Business Administration defines, in 13 CFR 121.201, small agricultural producers as those having annual receipts of no more than $1,000,000 and small “Other Farm Product Raw Material Merchant Wholesalers” (cotton merchants/importers) as having no more than 100 employees. The Cotton Board estimates approximately 40,000 importers are subject to rules and regulations issued pursuant to the Cotton Research and Promotion Order. According to the United States Census Bureau's “2016 Survey of SUSB Annual Data Tables by Establishment Industry,” most importers are considered small entities as defined by the Small Business Administration (13 CFR 121.201). This rule would only affect importers of cotton and cotton-containing products and would decrease assessments paid by importers under the Cotton Research and Promotion Order. The current assessment on imported cotton is $0.011562 per kilogram of imported cotton. The amended assessment would be $0.011136, which was calculated based on the 12-month weighted average of price received by U.S. cotton farmers. Section 1205.510 of the Order, “Levy of assessments”, provides “The rate of the supplemental assessment on imported cotton will be the same as that levied on cotton produced within the United States.” In addition, section 1205.510 provides that the 12-month weighted average of prices received by U.S. farmers will be used as the value of imported cotton for the purpose of levying the supplemental assessment on imported cotton.

Under the Cotton Research and Promotion Program, assessments are used by the Cotton Board to finance research and promotion programs designed to increase consumer demand for Upland cotton in the United States and international markets. In 2020, producer assessments totaled $42.3 million and importer assessments totaled $36.1 million. According to the Cotton Board, should the volume of cotton products imported into the U.S. remain at the same level in 2021, one could expect a decrease of assessments by approximately $1,329,275.

Imported organic cotton and products may be exempt from assessment if eligible under section 1205.519 of the Order.

There are no Federal rules that duplicate, overlap, or conflict with this rule.

In compliance with Office of Management and Budget (OMB) regulations (5 CFR part 1320), which implement the Paperwork Reduction Act (PRA) (44 U.S.C. Chapter 35), information collection requirements contained in the regulation to be amended have been previously approved by OMB and were assigned control number 0581-0093, National Research, Promotion, and Consumer Information Programs. This rule does not result in a change to the information collection and recordkeeping requirements previously approved.

A 30-day comment period is provided to comment on changes to the Cotton Board Rules and Regulations provided herein. This period is deemed appropriate because an amendment is required to adjust assessments collected on imported cotton and the cotton content of imported products to be the same as those paid on domestically produced cotton.

List of Subjects in 7 CFR Part 1205

Advertising, Agricultural research, Cotton, Marketing agreements, Reporting and recordkeeping requirements.

For reasons set forth in the preamble, AMS amends 7 CFR part 1205 as follows:

PART 1205—COTTON RESEARCH AND PROMOTION

1. The authority citation for part 1205 continues to read as follows:

Authority: 7 U.S.C. 2101-2118; 7 U.S.C. 7401.

2. In § 1205.510, paragraph (b)(2) and the table in paragraph (b)(3) are revised to read as follows:

§ 1205.510 Levy of assessments.

* * * * *

(b) * * *

(2) The 12-month average of monthly weighted-average prices received by U.S. farmers will be calculated annually. Such weighted average will be used as the value of imported cotton for the purpose of levying the supplemental assessment on imported cotton and will be expressed in kilograms. The value of imported cotton for the purpose of levying this supplemental assessment is $1.1136 cents per kilogram.

(3) * * *

Import Assessment Table
[Raw cotton fiber]
HTS No. | Conv. factor | Cents/kg
5007106010 | 0.2713 | 0.3021197
5007106020 | 0.2713 | 0.3021197
5007906010 | 0.2713 | 0.3021197
5007906020 | 0.2713 | 0.3021197
5112904000 | 0.1085 | 0.1208256
5112905000 | 0.1085 | 0.1208256
5112909010 | 0.1085 | 0.1208256
5112909090 | 0.1085 | 0.1208256
5201000500 | 1 | 1.1136000
5201001200 | 1 | 1.1136000
5201001400 | 1 | 1.1136000
5201001800 | 1 | 1.1136000
5201002200 | 1 | 1.1136000
5201002400 | 1 | 1.1136000
5201002800 | 1 | 1.1136000
5201003400 | 1 | 1.1136000
5201003800 | 1 | 1.1136000
5204110000 | 1.0526 | 1.1721754
5204190000 | 0.6316 | 0.7033498
5204200000 | 1.0526 | 1.1721754
5205111000 | 1 | 1.1136000
5205112000 | 1 | 1.1136000
5205121000 | 1 | 1.1136000
5205122000 | 1 | 1.1136000
5205131000 | 1 | 1.1136000
5205132000 | 1 | 1.1136000
5205141000 | 1 | 1.1136000
5205142000 | 1 | 1.1136000
5205151000 | 1 | 1.1136000
5205152000 | 1 | 1.1136000
5205210020 | 1.044 | 1.1625984
5205210090 | 1.044 | 1.1625984
5205220020 | 1.044 | 1.1625984
5205220090 | 1.044 | 1.1625984
5205230020 | 1.044 | 1.1625984
5205230090 | 1.044 | 1.1625984
5205240020 | 1.044 | 1.1625984
5205240090 | 1.044 | 1.1625984
5205260020 | 1.044 | 1.1625984
5205260090 | 1.044 | 1.1625984
5205270020 | 1.044 | 1.1625984
5205270090 | 1.044 | 1.1625984
5205280020 | 1.044 | 1.1625984
5205280090 | 1.044 | 1.1625984
5205310000 | 1 | 1.1136000
5205320000 | 1 | 1.1136000
5205330000 | 1 | 1.1136000
5205340000 | 1 | 1.1136000
5205350000 | 1 | 1.1136000
5205410020 | 1.044 | 1.1625984
5205410090 | 1.044 | 1.1625984
5205420021 | 1.044 | 1.1625984
5205420029 | 1.044 | 1.1625984
5205420090 | 1.044 | 1.1625984
5205430021 | 1.044 | 1.1625984
5205430029 | 1.044 | 1.1625984
5205430090 | 1.044 | 1.1625984
5205440021 | 1.044 | 1.1625984
5205440029 | 1.044 | 1.1625984
5205440090 | 1.044 | 1.1625984
5205460021 | 1.044 | 1.1625984
5205460029 | 1.044 | 1.1625984
5205460090 | 1.044 | 1.1625984
5205470021 | 1.044 | 1.1625984
5205470029 | 1.044 | 1.1625984
5205470090 | 1.044 | 1.1625984
5205480020 | 1.044 | 1.1625984
5205480090 | 1.044 | 1.1625984
5206110000 | 0.7368 | 0.8205005
5206120000 | 0.7368 | 0.8205005
5206130000 | 0.7368 | 0.8205005
5206140000 | 0.7368 | 0.8205005
5206150000 | 0.7368 | 0.8205005
5206210000 | 0.7692 | 0.8565811
5206220000 | 0.7692 | 0.8565811
5206230000 | 0.7692 | 0.8565811
5206240000 | 0.7692 | 0.8565811
5206250000 | 0.7692 | 0.8565811
5206310000 | 0.7368 | 0.8205005
5206320000 | 0.7368 | 0.8205005
5206330000 | 0.7368 | 0.8205005
5206340000 | 0.7368 | 0.8205005
5206350000 | 0.7368 | 0.8205005
5206410000 | 0.7692 | 0.8565811
5206420000 | 0.7692 | 0.8565811
5206430000 | 0.7692 | 0.8565811
5206440000 | 0.7692 | 0.8565811
5206450000 | 0.7692 | 0.8565811
5207100000 | 0.9474 | 1.0550246
5207900000 | 0.6316 | 0.7033498
5208112020 | 1.0852 | 1.2084787
5208112040 | 1.0852 | 1.2084787
5208112090 | 1.0852 | 1.2084787
5208114020 | 1.0852 | 1.2084787
5208114040 | 1.0852 | 1.2084787
5208114060 | 1.0852 | 1.2084787
5208114090 | 1.0852 | 1.2084787
5208116000 | 1.0852 | 1.2084787
5208118020 | 1.0852 | 1.2084787
5208118090 | 1.0852 | 1.2084787
5208124020 | 1.0852 | 1.2084787
5208124040 | 1.0852 | 1.2084787
5208124090 | 1.0852 | 1.2084787
5208126020 | 1.0852 | 1.2084787
5208126040 | 1.0852 | 1.2084787
5208126060 | 1.0852 | 1.2084787
5208126090 | 1.0852 | 1.2084787
5208128020 | 1.0852 | 1.2084787
5208128090 | 1.0852 | 1.2084787
5208130000 | 1.0852 | 1.2084787
5208192020 | 1.0852 | 1.2084787
5208192090 | 1.0852 | 1.2084787
5208194020 | 1.0852 | 1.2084787
5208194090 | 1.0852 | 1.2084787
5208196020 | 1.0852 | 1.2084787
5208196090 | 1.0852 | 1.2084787
5208198020 | 1.0852 | 1.2084787
5208198090 | 1.0852 | 1.2084787
5208212020 | 1.0852 | 1.2084787
5208212040 | 1.0852 | 1.2084787
5208212090 | 1.0852 | 1.2084787
5208214020 | 1.0852 | 1.2084787
5208214040 | 1.0852 | 1.2084787
5208214060 | 1.0852 | 1.2084787
5208214090 | 1.0852 | 1.2084787
5208216020 | 1.0852 | 1.2084787
5208216090 | 1.0852 | 1.2084787
5208224020 | 1.0852 | 1.2084787
5208224040 | 1.0852 | 1.2084787
5208224090 | 1.0852 | 1.2084787
5208226020 | 1.0852 | 1.2084787
5208226040 | 1.0852 | 1.2084787
5208226060 | 1.0852 | 1.2084787
5208226090 | 1.0852 | 1.2084787
5208228020 | 1.0852 | 1.2084787
5208228090 | 1.0852 | 1.2084787
5208230000 | 1.0852 | 1.2084787
5208292020 | 1.0852 | 1.2084787
5208292090 | 1.0852 | 1.2084787
5208294020 | 1.0852 | 1.2084787
5208294090 | 1.0852 | 1.2084787
5208296020 | 1.0852 | 1.2084787
5208296090 | 1.0852 | 1.2084787
5208298020 | 1.0852 | 1.2084787
5208298090 | 1.0852 | 1.2084787
5208312000 | 1.0852 | 1.2084787
5208314020 | 1.0852 | 1.2084787
5208314040 | 1.0852 | 1.2084787
5208314090 | 1.0852 | 1.2084787
5208316020 | 1.0852 | 1.2084787
5208316040 | 1.0852 | 1.2084787
5208316060 | 1.0852 | 1.2084787
5208316090 | 1.0852 | 1.2084787
5208318020 | 1.0852 | 1.2084787
5208318090 | 1.0852 | 1.2084787
5208321000 | 1.0852 | 1.2084787
5208323020 | 1.0852 | 1.2084787
5208323040 | 1.0852 | 1.2084787
5208323090 | 1.0852 | 1.2084787
5208324020 | 1.0852 | 1.2084787
5208324040 | 1.0852 | 1.2084787
5208324060 | 1.0852 | 1.2084787
5208324090 | 1.0852 | 1.2084787
5208325020 | 1.0852 | 1.2084787
5208325090 | 1.0852 | 1.2084787
5208330000 | 1.0852 | 1.2084787
5208392020 | 1.0852 | 1.2084787
5208392090 | 1.0852 | 1.2084787
5208394020 | 1.0852 | 1.2084787
5208394090 | 1.0852 | 1.2084787
5208396020 | 1.0852 | 1.2084787
5208396090 | 1.0852 | 1.2084787
5208398020 | 1.0852 | 1.2084787
5208398090 | 1.0852 | 1.2084787
5208412000 | 1.0852 | 1.2084787
5208414000 | 1.0852 | 1.2084787
5208416000 | 1.0852 | 1.2084787
5208418000 | 1.0852 | 1.2084787
5208421000 | 1.0852 | 1.2084787
5208423000 | 1.0852 | 1.2084787
5208424000 | 1.0852 | 1.2084787
5208425000 | 1.0852 | 1.2084787
5208430000 | 1.0852 | 1.2084787
5208492000 | 1.0852 | 1.2084787
5208494010 | 1.0852 | 1.2084787
5208494020 | 1.0852 | 1.2084787
5208494090 | 1.0852 | 1.2084787
5208496010 | 1.0852 | 1.2084787
5208496020 | 1.0852 | 1.2084787
5208496030 | 1.0852 | 1.2084787
5208496090 | 1.0852 | 1.2084787
5208498020 | 1.0852 | 1.2084787
5208498090 | 1.0852 | 1.2084787
5208512000 | 1.0852 | 1.2084787
5208514020 | 1.0852 | 1.2084787
5208514040 | 1.0852 | 1.2084787
5208514090 | 1.0852 | 1.2084787
5208516020 | 1.0852 | 1.2084787
5208516040 | 1.0852 | 1.2084787
5208516060 | 1.0852 | 1.2084787
5208516090 | 1.0852 | 1.2084787
5208518020 | 1.0852 | 1.2084787
5208518090 | 1.0852 | 1.2084787
5208521000 | 1.0852 | 1.2084787
5208523020 | 1.0852 | 1.2084787
5208523035 | 1.0852 | 1.2084787
5208523045 | 1.0852 | 1.2084787
5208523090 | 1.0852 | 1.2084787
5208524020 | 1.0852 | 1.2084787
5208524035 | 1.0852 | 1.2084787
5208524045 | 1.0852 | 1.2084787
5208524055 | 1.0852 | 1.2084787
5208524065 | 1.0852 | 1.2084787
5208524090 | 1.0852 | 1.2084787
5208525020 | 1.0852 | 1.2084787
5208525090 | 1.0852 | 1.2084787
5208591000 | 1.0852 | 1.2084787
5208592015 | 1.0852 | 1.2084787
5208592025 | 1.0852 | 1.2084787
5208592085 | 1.0852 | 1.2084787
5208592095 | 1.0852 | 1.2084787
5208594020 | 1.0852 | 1.2084787
5208594090 | 1.0852 | 1.2084787
5208596020 | 1.0852 | 1.2084787
5208596090 | 1.0852 | 1.2084787
5208598020 | 1.0852 | 1.2084787
5208598090 | 1.0852 | 1.2084787
5209110020 | 1.0309 | 1.1480102
5209110025 | 1.0309 | 1.1480102
5209110035 | 1.0309 | 1.1480102
5209110050 | 1.0309 | 1.1480102
5209110090 | 1.0309 | 1.1480102
5209120020 | 1.0309 | 1.1480102
5209120040 | 1.0309 | 1.1480102
5209190020 | 1.0309 | 1.1480102
5209190040 | 1.0309 | 1.1480102
5209190060 | 1.0309 | 1.1480102
5209190090 | 1.0309 | 1.1480102
5209210020 | 1.0309 | 1.1480102
5209210025 | 1.0309 | 1.1480102
5209210035 | 1.0309 | 1.1480102
5209210050 | 1.0309 | 1.1480102
5209210090 | 1.0309 | 1.1480102
5209220020 | 1.0309 | 1.1480102
5209220040 | 1.0309 | 1.1480102
5209290020 | 1.0309 | 1.1480102
5209290040 | 1.0309 | 1.1480102
5209290060 | 1.0309 | 1.1480102
5209290090 | 1.0309 | 1.1480102
5209313000 | 1.0309 | 1.1480102
5209316020 | 1.0309 | 1.1480102
5209316025 | 1.0309 | 1.1480102
5209316035 | 1.0309 | 1.1480102
5209316050 | 1.0309 | 1.1480102
5209316090 | 1.0309 | 1.1480102
5209320020 | 1.0309 | 1.1480102
5209320040 | 1.0309 | 1.1480102
5209390020 | 1.0309 | 1.1480102
5209390040 | 1.0309 | 1.1480102
5209390060 | 1.0309 | 1.1480102
5209390080 | 1.0309 | 1.1480102
5209390090 | 1.0309 | 1.1480102
5209413000 | 1.0309 | 1.1480102
5209416020 | 1.0309 | 1.1480102
5209416040 | 1.0309 | 1.1480102
5209420020 | 0.9767 | 1.0876531
5209420040 | 0.9767 | 1.0876531
5209420060 | 0.9767 | 1.0876531
5209420080 | 0.9767 | 1.0876531
5209430030 | 1.0309 | 1.1480102
5209430050 | 1.0309 | 1.1480102
5209490020 | 1.0309 | 1.1480102
5209490040 | 1.0309 | 1.1480102
5209490090 | 1.0309 | 1.1480102
5209513000 | 1.0309 | 1.1480102
5209516015 | 1.0852 | 1.2084787
5209516025 | 1.0852 | 1.2084787
5209516032 | 1.0852 | 1.2084787
5209516035 | 1.0852 | 1.2084787
5209516050 | 1.0852 | 1.2084787
5209516090 | 1.0852 | 1.2084787
5209520020 | 1.0852 | 1.2084787
5209520040 | 1.0852 | 1.2084787
5209590015 | 1.0852 | 1.2084787
5209590025 | 1.0852 | 1.2084787
5209590040 | 1.0852 | 1.2084787
5209590060 | 1.0852 | 1.2084787
5209590090 | 1.0852 | 1.2084787
5210114020 | 0.6511 | 0.7250650
5210114040 | 0.6511 | 0.7250650
5210114090 | 0.6511 | 0.7250650
5210116020 | 0.6511 | 0.7250650
5210116040 | 0.6511 | 0.7250650
5210116060 | 0.6511 | 0.7250650
5210116090 | 0.6511 | 0.7250650
5210118020 | 0.6511 | 0.7250650
5210118090 | 0.6511 | 0.7250650
5210191000 | 0.6511 | 0.7250650
5210192020 | 0.6511 | 0.7250650
5210192090 | 0.6511 | 0.7250650
5210194020 | 0.6511 | 0.7250650
5210194090 | 0.6511 | 0.7250650
5210196020 | 0.6511 | 0.7250650
5210196090 | 0.6511 | 0.7250650
5210198020 | 0.6511 | 0.7250650
5210198090 | 0.6511 | 0.7250650
5210214020 | 0.6511 | 0.7250650
5210214040 | 0.6511 | 0.7250650
5210214090 | 0.6511 | 0.7250650
5210216020 | 0.6511 | 0.7250650
5210216040 | 0.6511 | 0.7250650
5210216060 | 0.6511 | 0.7250650
5210216090 | 0.6511 | 0.7250650
5210218020 | 0.6511 | 0.7250650
5210218090 | 0.6511 | 0.7250650
5210291000 | 0.6511 | 0.7250650
5210292020 | 0.6511 | 0.7250650
5210292090 | 0.6511 | 0.7250650
5210294020 | 0.6511 | 0.7250650
5210294090 | 0.6511 | 0.7250650
5210296020 | 0.6511 | 0.7250650
5210296090 | 0.6511 | 0.7250650
5210298020 | 0.6511 | 0.7250650
5210298090 | 0.6511 | 0.7250650
5210314020 | 0.6511 | 0.7250650
5210314040 | 0.6511 | 0.7250650
5210314090 | 0.6511 | 0.7250650
5210316020 | 0.6511 | 0.7250650
5210316040 | 0.6511 | 0.7250650
5210316060 | 0.6511 | 0.7250650
5210316090 | 0.6511 | 0.7250650
5210318020 | 0.6511 | 0.7250650
5210318090 | 0.6511 | 0.7250650
5210320000 | 0.6511 | 0.7250650
5210392020 | 0.6511 | 0.7250650
5210392090 | 0.6511 | 0.7250650
5210394020 | 0.6511 | 0.7250650
5210394090 | 0.6511 | 0.7250650
5210396020 | 0.6511 | 0.7250650
5210396090 | 0.6511 | 0.7250650
5210398020 | 0.6511 | 0.7250650
5210398090 | 0.6511 | 0.7250650
5210414000 | 0.6511 | 0.7250650
5210416000 | 0.6511 | 0.7250650
5210418000 | 0.6511 | 0.7250650
5210491000 | 0.6511 | 0.7250650
5210492000 | 0.6511 | 0.7250650
5210494010 | 0.6511 | 0.7250650
5210494020 | 0.6511 | 0.7250650
5210494090 | 0.6511 | 0.7250650
5210496010 | 0.6511 | 0.7250650
5210496020 | 0.6511 | 0.7250650
5210496090 | 0.6511 | 0.7250650
5210498020 | 0.6511 | 0.7250650
5210498090 | 0.6511 | 0.7250650
5210514020 | 0.6511 | 0.7250650
5210514040 | 0.6511 | 0.7250650
5210514090 | 0.6511 | 0.7250650
5210516020 | 0.6511 | 0.7250650
5210516040 | 0.6511 | 0.7250650
5210516060 | 0.6511 | 0.7250650
5210516090 | 0.6511 | 0.7250650
5210518020 | 0.6511 | 0.7250650
5210518090 | 0.6511 | 0.7250650
5210591000 | 0.6511 | 0.7250650
5210592020 | 0.6511 | 0.7250650
5210592090 | 0.6511 | 0.7250650
5210594020 | 0.6511 | 0.7250650
5210594090 | 0.6511 | 0.7250650
5210596020 | 0.6511 | 0.7250650
5210596090 | 0.6511 | 0.7250650
5210598020 | 0.6511 | 0.7250650
5210598090 | 0.6511 | 0.7250650
5211110020 | 0.6511 | 0.7250650
5211110025 | 0.6511 | 0.7250650
5211110035 | 0.6511 | 0.7250650
5211110050 | 0.6511 | 0.7250650
5211110090 | 0.6511 | 0.7250650
5211120020 | 0.6511 | 0.7250650
5211120040 | 0.6511 | 0.7250650
5211190020 | 0.6511 | 0.7250650
5211190040 | 0.6511 | 0.7250650
5211190060 | 0.6511 | 0.7250650
5211190090 | 0.6511 | 0.7250650
5211202120 | 0.6511 | 0.7250650
5211202125 | 0.6511 | 0.7250650
5211202135 | 0.6511 | 0.7250650
5211202150 | 0.6511 | 0.7250650
5211202190 | 0.6511 | 0.7250650
5211202220 | 0.6511 | 0.7250650
5211202240 | 0.6511 | 0.7250650
5211202920 | 0.6511 | 0.7250650
5211202940 | 0.6511 | 0.7250650
5211202960 | 0.6511 | 0.7250650
5211202990 | 0.6511 | 0.7250650
5211310020 | 0.6511 | 0.7250650
5211310025 | 0.6511 | 0.7250650
5211310035 | 0.6511 | 0.7250650
5211310050 | 0.6511 | 0.7250650
5211310090 | 0.6511 | 0.7250650
5211320020 | 0.6511 | 0.7250650
5211320040 | 0.6511 | 0.7250650
5211390020 | 0.6511 | 0.7250650
5211390040 | 0.6511 | 0.7250650
5211390060 | 0.6511 | 0.7250650
5211390090 | 0.6511 | 0.7250650
5211410020 | 0.6511 | 0.7250650
5211410040 | 0.6511 | 0.7250650
5211420020 | 0.7054 | 0.7855334
5211420040 | 0.7054 | 0.7855334
5211420060 | 0.6511 | 0.7250650
5211420080 | 0.6511 | 0.7250650
5211430030 | 0.6511 | 0.7250650
5211430050 | 0.6511 | 0.7250650
5211490020 | 0.6511 | 0.7250650
5211490090 | 0.6511 | 0.7250650
5211510020 | 0.6511 | 0.7250650
5211510030 | 0.6511 | 0.7250650
5211510050 | 0.6511 | 0.7250650
5211510090 | 0.6511 | 0.7250650
5211520020 | 0.6511 | 0.7250650
5211520040 | 0.6511 | 0.7250650
5211590015 | 0.6511 | 0.7250650
5211590025 | 0.6511 | 0.7250650
5211590040 | 0.6511 | 0.7250650
5211590060 | 0.6511 | 0.7250650
5211590090 | 0.6511 | 0.7250650
5212111010 | 0.5845 | 0.6508992
5212111020 | 0.6231 | 0.6938842
5212116010 | 0.8681 | 0.9667162
5212116020 | 0.8681 | 0.9667162
5212116030 | 0.8681 | 0.9667162
5212116040 | 0.8681 | 0.9667162
5212116050 | 0.8681 | 0.9667162
5212116060 | 0.8681 | 0.9667162
5212116070 | 0.8681 | 0.9667162
5212116080 | 0.8681 | 0.9667162
5212116090 | 0.8681 | 0.9667162
5212121010 | 0.5845 | 0.6508992
5212121020 | 0.6231 | 0.6938842
5212126010 | 0.8681 | 0.9667162
5212126020 | 0.8681 | 0.9667162
5212126030 | 0.8681 | 0.9667162
5212126040 | 0.8681 | 0.9667162
5212126050 | 0.8681 | 0.9667162
5212126060 | 0.8681 | 0.9667162
5212126070 | 0.8681 | 0.9667162
5212126080 | 0.8681 | 0.9667162
5212126090 | 0.8681 | 0.9667162
5212131010 | 0.5845 | 0.6508992
5212131020 | 0.6231 | 0.6938842
5212136010 | 0.8681 | 0.9667162
5212136020 | 0.8681 | 0.9667162
5212136030 | 0.8681 | 0.9667162
5212136040 | 0.8681 | 0.9667162
5212136050 | 0.8681 | 0.9667162
5212136060 | 0.8681 | 0.9667162
5212136070 | 0.8681 | 0.9667162
5212136080 | 0.8681 | 0.9667162
5212136090 | 0.8681 | 0.9667162
5212141010 | 0.5845 | 0.6508992
5212141020 | 0.6231 | 0.6938842
5212146010 | 0.8681 | 0.9667162
5212146020 | 0.8681 | 0.9667162
5212146030 | 0.8681 | 0.9667162
5212146090 | 0.8681 | 0.9667162
5212151010 | 0.5845 | 0.6508992
5212151020 | 0.6231 | 0.6938842
5212156010 | 0.8681 | 0.9667162
5212156020 | 0.8681 | 0.9667162
5212156030 | 0.8681 | 0.9667162
5212156040 | 0.8681 | 0.9667162
5212156050 | 0.8681 | 0.9667162
5212156060 | 0.8681 | 0.9667162
5212156070 | 0.8681 | 0.9667162
5212156080 | 0.8681 | 0.9667162
5212156090 | 0.8681 | 0.9667162
5212211010 | 0.5845 | 0.6508992
5212211020 | 0.6231 | 0.6938842
5212216010 | 0.8681 | 0.9667162
5212216020 | 0.8681 | 0.9667162
5212216030 | 0.8681 | 0.9667162
5212216040 | 0.8681 | 0.9667162
5212216050 | 0.8681 | 0.9667162
5212216060 | 0.8681 | 0.9667162
5212216090 | 0.8681 | 0.9667162
5212221010 | 0.5845 | 0.6508992
5212221020 | 0.6231 | 0.6938842
5212226010 | 0.8681 | 0.9667162
5212226020 | 0.8681 | 0.9667162
5212226030 | 0.8681 | 0.9667162
5212226040 | 0.8681 | 0.9667162
5212226050 | 0.8681 | 0.9667162
5212226060 | 0.8681 | 0.9667162
5212226090 | 0.8681 | 0.9667162
5212231010 | 0.5845 | 0.6508992
5212231020 | 0.6231 | 0.6938842
5212236010 | 0.8681 | 0.9667162
5212236020 | 0.8681 | 0.9667162
5212236030 | 0.8681 | 0.9667162
5212236040 | 0.8681 | 0.9667162
5212236050 | 0.8681 | 0.9667162
5212236060 | 0.8681 | 0.9667162
5212236090 | 0.8681 | 0.9667162
5212241010 | 0.5845 | 0.6508992
5212241020 | 0.6231 | 0.6938842
5212246010 | 0.8681 | 0.9667162
5212246020 | 0.7054 | 0.7855334
5212246030 | 0.8681 | 0.9667162
5212246040 | 0.8681 | 0.9667162
5212246090 | 0.8681 | 0.9667162
5212251010 | 0.5845 | 0.6508992
5212251020 | 0.6231 | 0.6938842
5212256010 | 0.8681 | 0.9667162
5212256020 | 0.8681 | 0.9667162
5212256030 | 0.8681 | 0.9667162
5212256040 | 0.8681 | 0.9667162
5212256050 | 0.8681 | 0.9667162
5212256060 | 0.8681 | 0.9667162
5212256090 | 0.8681 | 0.9667162
5309213005 | 0.5426 | 0.6042394
5309213010 | 0.5426 | 0.6042394
5309213015 | 0.5426 | 0.6042394
5309213020 | 0.5426 | 0.6042394
5309214010 | 0.2713 | 0.3021197
5309214090 | 0.2713 | 0.3021197
5309293005 | 0.5426 | 0.6042394
5309293010 | 0.5426 | 0.6042394
5309293015 | 0.5426 | 0.6042394
5309293020 | 0.5426 | 0.6042394
5309294010 | 0.2713 | 0.3021197
5309294090 | 0.2713 | 0.3021197
5311003005 | 0.5426 | 0.6042394
5311003010 | 0.5426 | 0.6042394
5311003015 | 0.5426 | 0.6042394
5311003020 | 0.5426 | 0.6042394
5311004010 | 0.8681 | 0.9667162
5311004020 | 0.8681 | 0.9667162
5407810010 | 0.5426 | 0.6042394
5407810020 | 0.5426 | 0.6042394
5407810030 | 0.5426 | 0.6042394
5407810040 | 0.5426 | 0.6042394
5407810090 | 0.5426 | 0.6042394
5407820010 | 0.5426 | 0.6042394
5407820020 | 0.5426 | 0.6042394
5407820030 | 0.5426 | 0.6042394
5407820040 | 0.5426 | 0.6042394
5407820090 | 0.5426 | 0.6042394
5407830010 | 0.5426 | 0.6042394
5407830020 | 0.5426 | 0.6042394
5407830030 | 0.5426 | 0.6042394
5407830040 | 0.5426 | 0.6042394
5407830090 | 0.5426 | 0.6042394
5407840010 | 0.5426 | 0.6042394
5407840020 | 0.5426 | 0.6042394
5407840030 | 0.5426 | 0.6042394
5407840040 | 0.5426 | 0.6042394
5407840090 | 0.5426 | 0.6042394
5509210000 | 0.1053 | 0.1172621
5509220010 | 0.1053 | 0.1172621
5509220090 | 0.1053 | 0.1172621
5509530030 | 0.3158 | 0.3516749
5509530060 | 0.3158 | 0.3516749
5509620000 | 0.5263 | 0.5860877
5509920000 | 0.5263 | 0.5860877
5510300000 | 0.3684 | 0.4102502
5511200000 | 0.3158 | 0.3516749
5512110010 | 0.1085 | 0.1208256
5512110022 | 0.1085 | 0.1208256
5512110027 | 0.1085 | 0.1208256
5512110030 | 0.1085 | 0.1208256
5512110040 | 0.1085 | 0.1208256
5512110050 | 0.1085 | 0.1208256
5512110060 | 0.1085 | 0.1208256
5512110070 | 0.1085 | 0.1208256
5512110090 | 0.1085 | 0.1208256
5512190005 | 0.1085 | 0.1208256
5512190010 | 0.1085 | 0.1208256
5512190015 | 0.1085 | 0.1208256
5512190022 | 0.1085 | 0.1208256
5512190027 | 0.1085 | 0.1208256
5512190030 | 0.1085 | 0.1208256
5512190035 | 0.1085 | 0.1208256
5512190040 | 0.1085 | 0.1208256
5512190045 | 0.1085 | 0.1208256
5512190050 | 0.1085 | 0.1208256
5512190090 | 0.1085 | 0.1208256
5512210010 | 0.0326 | 0.0363034
5512210020 | 0.0326 | 0.0363034
5512210030 | 0.0326 | 0.0363034
5512210040 | 0.0326 | 0.0363034
5512210060 | 0.0326 | 0.0363034
5512210070 | 0.0326 | 0.0363034
5512210090 | 0.0326 | 0.0363034
5512290010 | 0.217 | 0.2416512
5512910010 | 0.0543 | 0.0604685
5512990005 | 0.0543 | 0.0604685
5512990010 | 0.0543 | 0.0604685
5512990015 | 0.0543 | 0.0604685
5512990020 | 0.0543 | 0.0604685
5512990025 | 0.0543 | 0.0604685
5512990030 | 0.0543 | 0.0604685
5512990035 | 0.0543 | 0.0604685
5512990040 | 0.0543 | 0.0604685
5512990045 | 0.0543 | 0.0604685
5512990090 | 0.0543 | 0.0604685
5513110020 | 0.3581 | 0.3987802
5513110040 | 0.3581 | 0.3987802
5513110060 | 0.3581 | 0.3987802
5513110090 | 0.3581 | 0.3987802
5513120000 | 0.3581 | 0.3987802
5513130020 | 0.3581 | 0.3987802
5513130040 | 0.3581 | 0.3987802
5513130090 | 0.3581 | 0.3987802
5513190010 | 0.3581 | 0.3987802
5513190020 | 0.3581 | 0.3987802
5513190030 | 0.3581 | 0.3987802
5513190040 | 0.3581 | 0.3987802
5513190050 | 0.3581 | 0.3987802
5513190060 | 0.3581 | 0.3987802
5513190090 | 0.3581 | 0.3987802
5513210020 | 0.3581 | 0.3987802
5513210040 | 0.3581 | 0.3987802
5513210060 | 0.3581 | 0.3987802
5513210090 | 0.3581 | 0.3987802
5513230121 | 0.3581 | 0.3987802
5513230141 | 0.3581 | 0.3987802
5513230191 | 0.3581 | 0.3987802
5513290010 | 0.3581 | 0.3987802
5513290020 | 0.3581 | 0.3987802
5513290030 | 0.3581 | 0.3987802
5513290040 | 0.3581 | 0.3987802
5513290050 | 0.3581 | 0.3987802
5513290060 | 0.3581 | 0.3987802
5513290090 | 0.3581 | 0.3987802
5513310000 | 0.3581 | 0.3987802
5513390111 | 0.3581 | 0.3987802
5513390115 | 0.3581 | 0.3987802
5513390191 | 0.3581 | 0.3987802
5513410020 | 0.3581 | 0.3987802
5513410040 | 0.3581 | 0.3987802
5513410060 | 0.3581 | 0.3987802
5513410090 | 0.3581 | 0.3987802
5513491000 | 0.3581 | 0.3987802
5513492020 | 0.3581 | 0.3987802
5513492040 | 0.3581 | 0.3987802
5513492090 | 0.3581 | 0.3987802
5513499010 | 0.3581 | 0.3987802
5513499020 | 0.3581 | 0.3987802
5513499030 | 0.3581 | 0.3987802
5513499040 | 0.3581 | 0.3987802
5513499050 | 0.3581 | 0.3987802
5513499060 | 0.3581 | 0.3987802
5513499090 | 0.3581 | 0.3987802
5514110020 | 0.4341 | 0.4834138
5514110030 | 0.4341 | 0.4834138
5514110050 | 0.4341 | 0.4834138
5514110090 | 0.4341 | 0.4834138
5514120020 | 0.4341 | 0.4834138
5514120040 | 0.4341 | 0.4834138
5514191020 | 0.4341 | 0.4834138
5514191040 | 0.4341 | 0.4834138
5514191090 | 0.4341 | 0.4834138
5514199010 | 0.4341 | 0.4834138
5514199020 | 0.4341 | 0.4834138
5514199030 | 0.4341 | 0.4834138
5514199040 | 0.4341 | 0.4834138
5514199090 | 0.4341 | 0.4834138
5514210020 | 0.4341 | 0.4834138
5514210030 | 0.4341 | 0.4834138
5514210050 | 0.4341 | 0.4834138
5514210090 | 0.4341 | 0.4834138
5514220020 | 0.4341 | 0.4834138
5514220040 | 0.4341 | 0.4834138
5514230020 | 0.4341 | 0.4834138
5514230040 | 0.4341 | 0.4834138
5514230090 | 0.4341 | 0.4834138
5514290010 | 0.4341 | 0.4834138
5514290020 | 0.4341 | 0.4834138
5514290030 | 0.4341 | 0.4834138
5514290040 | 0.4341 | 0.4834138
5514290090 | 0.4341 | 0.4834138
5514303100 | 0.4341 | 0.4834138
5514303210 | 0.4341 | 0.4834138
5514303215 | 0.4341 | 0.4834138
5514303280 | 0.4341 | 0.4834138
5514303310 | 0.4341 | 0.4834138
5514303390 | 0.4341 | 0.4834138
5514303910 | 0.4341 | 0.4834138
5514303920 | 0.4341 | 0.4834138
5514303990 | 0.4341 | 0.4834138
5514410020 | 0.4341 | 0.4834138
5514410030 | 0.4341 | 0.4834138
5514410050 | 0.4341 | 0.4834138
5514410090 | 0.4341 | 0.4834138
5514420020 | 0.4341 | 0.4834138
5514420040 | 0.4341 | 0.4834138
5514430020 | 0.4341 | 0.4834138
5514430040 | 0.4341 | 0.4834138
5514430090 | 0.4341 | 0.4834138
5514490010 | 0.4341 | 0.4834138
5514490020 | 0.4341 | 0.4834138
5514490030 | 0.4341 | 0.4834138
5514490040 | 0.4341 | 0.4834138
5514490090 | 0.4341 | 0.4834138
5515110005 | 0.1085 | 0.1208256
5515110010 | 0.1085 | 0.1208256
5515110015 | 0.1085 | 0.1208256
5515110020 | 0.1085 | 0.1208256
5515110025 | 0.1085 | 0.1208256
5515110030 | 0.1085 | 0.1208256
5515110035 | 0.1085 | 0.1208256
5515110040 | 0.1085 | 0.1208256
5515110045 | 0.1085 | 0.1208256
5515110090 | 0.1085 | 0.1208256
5515120010 | 0.1085 | 0.1208256
5515120022 | 0.1085 | 0.1208256
5515120027 | 0.1085 | 0.1208256
5515120030 | 0.1085 | 0.1208256
5515120040 | 0.1085 | 0.1208256
5515120090 | 0.1085 | 0.1208256
5515190005 | 0.1085 | 0.1208256
5515190010 | 0.1085 | 0.1208256
5515190015 | 0.1085 | 0.1208256
5515190020 | 0.1085 | 0.1208256
5515190025 | 0.1085 | 0.1208256
5515190030 | 0.1085 | 0.1208256
5515190035 | 0.1085 | 0.1208256
5515190040 | 0.1085 | 0.1208256
5515190045 | 0.1085 | 0.1208256
5515190090 | 0.1085 | 0.1208256
5515290005 | 0.1085 | 0.1208256
5515290010 | 0.1085 | 0.1208256
5515290015 | 0.1085 | 0.1208256
5515290020 | 0.1085 | 0.1208256
5515290025 | 0.1085 | 0.1208256
5515290030 | 0.1085 | 0.1208256
5515290035 | 0.1085 | 0.1208256
5515290040 | 0.1085 | 0.1208256
5515290045 | 0.1085 | 0.1208256
5515290090 | 0.1085 | 0.1208256
5515999005 | 0.1085 | 0.1208256
5515999010 | 0.1085 | 0.1208256
5515999015 | 0.1085 | 0.1208256
5515999020 | 0.1085 | 0.1208256
5515999025 | 0.1085 | 0.1208256
5515999030 | 0.1085 | 0.1208256
5515999035 | 0.1085 | 0.1208256
5515999040 | 0.1085 | 0.1208256
5515999045 | 0.1085 | 0.1208256
5515999090 | 0.1085 | 0.1208256
5516210010 | 0.1085 | 0.1208256
5516210020 | 0.1085 | 0.1208256
5516210030 | 0.1085 | 0.1208256
5516210040 | 0.1085 | 0.1208256
5516210090 | 0.1085 | 0.1208256
5516220010 | 0.1085 | 0.1208256
5516220020 | 0.1085 | 0.1208256
5516220030 | 0.1085 | 0.1208256
5516220040 | 0.1085 | 0.1208256
5516220090 | 0.1085 | 0.1208256
5516230010 | 0.1085 | 0.1208256
5516230020 | 0.1085 | 0.1208256
5516230030 | 0.1085 | 0.1208256
5516230040 | 0.1085 | 0.1208256
5516230090 | 0.1085 | 0.1208256
5516240010 | 0.1085 | 0.1208256
5516240020 | 0.1085 | 0.1208256
5516240030 | 0.1085 | 0.1208256
5516240040 | 0.1085 | 0.1208256
5516240085 | 0.1085 | 0.1208256
5516240095 | 0.1085 | 0.1208256
5516410010 | 0.3798 | 0.4229453
5516410022 | 0.3798 | 0.4229453
5516410027 | 0.3798 | 0.4229453
5516410030 | 0.3798 | 0.4229453
5516410040 | 0.3798 | 0.4229453
5516410050 | 0.3798 | 0.4229453
5516410060 | 0.3798 | 0.4229453
5516410070 | 0.3798 | 0.4229453
5516410090 | 0.3798 | 0.4229453
5516420010 | 0.3798 | 0.4229453
5516420022 | 0.3798 | 0.4229453
5516420027 | 0.3798 | 0.4229453
5516420030 | 0.3798 | 0.4229453
5516420040 | 0.3798 | 0.4229453
5516420050 | 0.3798 | 0.4229453
5516420060 | 0.3798 | 0.4229453
5516420070 | 0.3798 | 0.4229453
5516420090 | 0.3798 | 0.4229453
5516430010 | 0.217 | 0.2416512
5516430015 | 0.3798 | 0.4229453
5516430020 | 0.3798 | 0.4229453
5516430035 | 0.3798 | 0.4229453
5516430080 | 0.3798 | 0.4229453
5516440010 | 0.3798 | 0.4229453
5516440022 | 0.3798 | 0.4229453
5516440027 | 0.3798 | 0.4229453
5516440030 | 0.3798 | 0.4229453
5516440040 | 0.3798 | 0.4229453
5516440050 | 0.3798 | 0.4229453
5516440060 | 0.3798 | 0.4229453
5516440070 | 0.3798 | 0.4229453
5516440090 | 0.3798 | 0.4229453
5516910010 | 0.0543 | 0.0604685
5516910020 | 0.0543 | 0.0604685
5516910030 | 0.0543 | 0.0604685
5516910040 | 0.0543 | 0.0604685
5516910050 | 0.0543 | 0.0604685
5516910060 | 0.0543 | 0.0604685
5516910070 | 0.0543 | 0.0604685
5516910090 | 0.0543 | 0.0604685
5516920010 | 0.0543 | 0.0604685
5516920020 | 0.0543 | 0.0604685
5516920030 | 0.0543 | 0.0604685
5516920040 | 0.0543 | 0.0604685
5516920050 | 0.0543 | 0.0604685
5516920060 | 0.0543 | 0.0604685
5516920070 | 0.0543 | 0.0604685
5516920090 | 0.0543 | 0.0604685
5516930010 | 0.0543 | 0.0604685
5516930020 | 0.0543 | 0.0604685
5516930090 | 0.0543 | 0.0604685
5516940010 | 0.0543 | 0.0604685
5516940020 | 0.0543 | 0.0604685
5516940030 | 0.0543 | 0.0604685
5516940040 | 0.0543 | 0.0604685
5516940050 | 0.0543 | 0.0604685
5516940060 | 0.0543 | 0.0604685
5516940070 | 0.0543 | 0.0604685
5516940090 | 0.0543 | 0.0604685
5601210010 | 0.9767 | 1.0876531
5601210090 | 0.9767 | 1.0876531
5601220010 | 0.1085 | 0.1208256
5601220050 | 0.1085 | 0.1208256
5601220091 | 0.1085 | 0.1208256
5601300000 | 0.3256 | 0.3625882
5602101000 | 0.0543 | 0.0604685
5602109090 | 0.4341 | 0.4834138
5602290000 | 0.4341 | 0.4834138
5602909000 | 0.3256 | 0.3625882
5603143000 | 0.2713 | 0.3021197
5603910010 | 0.0217 | 0.0241651
5603910090 | 0.0651 | 0.0724954
5603920010 | 0.0217 | 0.0241651
5603920090 | 0.0651 | 0.0724954
5603930010 | 0.0217 | 0.0241651
5603930090 | 0.0651 | 0.0724954
5603941090 | 0.3256 | 0.3625882
5603943000 | 0.1628 | 0.1812941
5603949010 | 0.0326 | 0.0363034
5604100000 | 0.2632 | 0.2930995
5604909000 | 0.2105 | 0.2344128
5605009000 | 0.1579 | 0.1758374
5606000010 | 0.1263 | 0.1406477
5606000090 | 0.1263 | 0.1406477
5607502500 | 0.1684 | 0.1875302
5607909000 | 0.8421 | 0.9377626
5608901000 | 1.0526 | 1.1721754
5608902300 | 0.6316 | 0.7033498
5608902700 | 0.6316 | 0.7033498
5608903000 | 0.3158 | 0.3516749
5609001000 | 0.8421 | 0.9377626
5609004000 | 0.2105 | 0.2344128
5701101300 | 0.0526 | 0.0585754
5701101600 | 0.0526 | 0.0585754
5701104000 | 0.0526 | 0.0585754
5701109000 | 0.0526 | 0.0585754
5701901010 | 1 | 1.1136000
5701901020 | 1 | 1.1136000
5701901030 | 0.0526 | 0.0585754
5701901090 | 0.0526 | 0.0585754
5701902010 | 0.9474 | 1.0550246
5701902020 | 0.9474 | 1.0550246
5701902030 | 0.0526 | 0.0585754
5701902090 | 0.0526 | 0.0585754
5702101000 | 0.0447 | 0.0497779
5702109010 | 0.0447 | 0.0497779
5702109020 | 0.85 | 0.9465600
5702109030 | 0.0447 | 0.0497779
5702109090 | 0.0447 | 0.0497779
5702201000 | 0.0447 | 0.0497779
5702311000 | 0.0447 | 0.0497779
5702312000 | 0.0895 | 0.0996672
5702322000 | 0.0895 | 0.0996672
5702391000 | 0.0895 | 0.0996672
5702392010 | 0.8053 | 0.8967821
5702392090 | 0.0447 | 0.0497779
5702411000 | 0.0447 | 0.0497779
5702412000 | 0.0447 | 0.0497779
5702421000 | 0.0895 | 0.0996672
5702422020 | 0.0895 | 0.0996672
5702422080 | 0.0895 | 0.0996672
5702491020 | 0.8947 | 0.9963379
5702491080 | 0.8947 | 0.9963379
5702492000 | 0.0895 | 0.0996672
5702502000 | 0.0895 | 0.0996672
5702504000 | 0.0447 | 0.0497779
5702505200 | 0.0895 | 0.0996672
5702505600 | 0.85 | 0.9465600
5702912000 | 0.0447 | 0.0497779
5702913000 | 0.0447 | 0.0497779
5702914000 | 0.0447 | 0.0497779
5702921000 | 0.0447 | 0.0497779
5702929000 | 0.0447 | 0.0497779
5702990500 | 0.8947 | 0.9963379
5702991500 | 0.8947 | 0.9963379
5703201000 | 0.0452 | 0.0503347
5703202010 | 0.0452 | 0.0503347
5703302000 | 0.0452 | 0.0503347
5703900000 | 0.3615 | 0.4025664
5705001000 | 0.0452 | 0.0503347
5705002005 | 0.0452 | 0.0503347
5705002015 | 0.0452 | 0.0503347
5705002020 | 0.7682 | 0.8554675
5705002030 | 0.0452 | 0.0503347
5705002090 | 0.1808 | 0.2013389
5801210000 | 0.9767 | 1.0876531
5801221000 | 0.9767 | 1.0876531
5801229000 | 0.9767 | 1.0876531
5801230000 | 0.9767 | 1.0876531
5801260010 | 0.7596 | 0.8458906
5801260020 | 0.7596 | 0.8458906
5801271000 | 0.9767 | 1.0876531
5801275010 | 1.0852 | 1.2084787
5801275020 | 0.9767 | 1.0876531
5801310000 | 0.217 | 0.2416512
5801320000 | 0.217 | 0.2416512
5801330000 | 0.217 | 0.2416512
5801360010 | 0.217 | 0.2416512
5801360020 | 0.217 | 0.2416512
5802110000 | 1.0309 | 1.1480102
5802190000 | 1.0309 | 1.1480102
5802200020 | 0.1085 | 0.1208256
5802200090 | 0.3256 | 0.3625882
5802300030 | 0.4341 | 0.4834138
5802300090 | 0.1085 | 0.1208256
5803001000 | 1.0852 | 1.2084787
5803002000 | 0.8681 | 0.9667162
5803003000 | 0.8681 | 0.9667162
5803005000 | 0.3256 | 0.3625882
5804101000 | 0.4341 | 0.4834138
5804109090 | 0.2193 | 0.2442125
5804291000 | 0.8772 | 0.9768499
5804300020 | 0.3256 | 0.3625882
5805001000 | 0.1085 | 0.1208256
5805003000 | 1.0852 | 1.2084787
5806101000 | 0.8681 | 0.9667162
5806103090 | 0.217 | 0.2416512
5806200010 | 0.2577 | 0.2869747
5806200090 | 0.2577 | 0.2869747
5806310000 | 0.8681 | 0.9667162
5806393080 | 0.217 | 0.2416512
5806400000 | 0.0814 | 0.0906470
5807100510 | 0.8681 | 0.9667162
5807102010 | 0.8681 | 0.9667162
5807900510 | 0.8681 | 0.9667162
5807902010 | 0.8681 | 0.9667162
5808104000 | 0.217 | 0.2416512
5808107000 | 0.217 | 0.2416512
5808900010 | 0.4341 | 0.4834138
5810100000 | 0.3256 | 0.3625882
5810910010 | 0.7596 | 0.8458906
5810910020 | 0.7596 | 0.8458906
5810921000 | 0.217 | 0.2416512
5810929030 | 0.217 | 0.2416512
5810929050 | 0.217 | 0.2416512
5810929080 | 0.217 | 0.2416512
5811002000 | 0.8681 | 0.9667162
5901102000 | 0.5643 | 0.6284045
5901904000 | 0.8139 | 0.9063590
5903101000 | 0.4341 | 0.4834138
5903103000 | 0.1085 | 0.1208256
5903201000 | 0.4341 | 0.4834138
5903203090 | 0.1085 | 0.1208256
5903901000 | 0.4341 | 0.4834138
5903903090 | 0.1085 | 0.1208256
5904901000 | 0.0326 | 0.0363034
5905001000 | 0.1085 | 0.1208256
5905009000 | 0.1085 | 0.1208256
5906100000 | 0.4341 | 0.4834138
5906911000 | 0.4341 | 0.4834138
5906913000 | 0.1085 | 0.1208256
5906991000 | 0.4341 | 0.4834138
5906993000 | 0.1085 | 0.1208256
5907002500 | 0.3798 | 0.4229453
5907003500 | 0.3798 | 0.4229453
5907008090 | 0.3798 | 0.4229453
5908000000 | 0.7813 | 0.8700557
5909001000 | 0.6837 | 0.7613683
5909002000 | 0.4883 | 0.5437709
5910001010 | 0.3798 | 0.4229453
5910001020 | 0.3798 | 0.4229453
5910001030 | 0.3798 | 0.4229453
5910001060 | 0.3798 | 0.4229453
5910001070 | 0.3798 | 0.4229453
5910001090 | 0.6837 | 0.7613683
5910009000 | 0.5697 | 0.6344179
5911101000 | 0.1736 | 0.1933210
5911102000 | 0.0434 | 0.0483302
5911201000 | 0.4341 | 0.4834138
5911310010 | 0.4341 | 0.4834138
5911310020 | 0.4341 | 0.4834138
5911310030 | 0.4341 | 0.4834138
5911310080 | 0.4341 | 0.4834138
5911320010 | 0.4341 | 0.4834138
5911320020 | 0.4341 | 0.4834138
5911320030 | 0.4341 | 0.4834138
5911320080 | 0.4341 | 0.4834138
5911400000 | 0.5426 | 0.6042394
5911900040 | 0.3158 | 0.3516749
5911900080 | 0.2105 | 0.2344128
6001106000 | 0.1096 | 0.1220506
6001210000 | 0.9868 | 1.0989005
6001220000 | 0.1096 | 0.1220506
6001290000 | 0.1096 | 0.1220506
6001910010 | 0.8772 | 0.9768499
6001910020 | 0.8772 | 0.9768499
6001920010 | 0.0548 | 0.0610253
6001920020 | 0.0548 | 0.0610253
6001920030 | 0.0548 | 0.0610253
6001920040 | 0.0548 | 0.0610253
6001999000 | 0.1096 | 0.1220506
6002404000 | 0.7401 | 0.8241754
6002408020 | 0.1974 | 0.2198246
6002408080 | 0.1974 | 0.2198246
6002904000 | 0.7895 | 0.8791872
6002908020 | 0.1974 | 0.2198246
6002908080 | 0.1974 | 0.2198246
6003201000 | 0.8772 | 0.9768499
6003203000 | 0.8772 | 0.9768499
6003301000 | 0.1096 | 0.1220506
6003306000 | 0.1096 | 0.1220506
6003401000 | 0.1096 | 0.1220506
6003406000 | 0.1096 | 0.1220506
6003901000 | 0.1096 | 0.1220506
6003909000 | 0.1096 | 0.1220506
6004100010 | 0.2961 | 0.3297370
6004100025 | 0.2961 | 0.3297370
6004100085 | 0.2961 | 0.3297370
6004902010 | 0.2961 | 0.3297370
6004902025 | 0.2961 | 0.3297370
6004902085 | 0.2961 | 0.3297370
6004909000 | 0.2961 | 0.3297370
6005210000 | 0.7127 | 0.7936627
6005220000 | 0.7127 | 0.7936627
6005230000 | 0.7127 | 0.7936627
6005240000 | 0.7127 | 0.7936627
6005360010 | 0.1096 | 0.1220506
6005360080 | 0.1096 | 0.1220506
6005370010 | 0.1096 | 0.1220506
6005370080 | 0.1096 | 0.1220506
6005380010 | 0.1096 | 0.1220506
6005380080 | 0.1096 | 0.1220506
6005390010 | 0.1096 | 0.1220506
6005390080 | 0.1096 | 0.1220506
6005410010 | 0.1096 | 0.1220506
6005410080 | 0.1096 | 0.1220506
6005420010 | 0.1096 | 0.1220506
6005420080 | 0.1096 | 0.1220506
6005430010 | 0.1096 | 0.1220506
6005430080 | 0.1096 | 0.1220506
6005440010 | 0.1096 | 0.1220506
6005440080 | 0.1096 | 0.1220506
6005909000 | 0.1096 | 0.1220506
6006211000 | 1.0965 | 1.2210624
6006219020 | 0.7675 | 0.8546880
6006219080 | 0.7675 | 0.8546880
6006221000 | 1.0965 | 1.2210624
6006229020 | 0.7675 | 0.8546880
6006229080 | 0.7675 | 0.8546880
6006231000 | 1.0965 | 1.2210624
6006239020 | 0.7675 | 0.8546880
6006239080 | 0.7675 | 0.8546880
6006241000 | 1.0965 | 1.2210624
6006249020 | 0.7675 | 0.8546880
6006249080 | 0.7675 | 0.8546880
6006310020 | 0.3289 | 0.3662630
6006310040 | 0.3289 | 0.3662630
6006310060 | 0.3289 | 0.3662630
6006310080 | 0.3289 | 0.3662630
6006320020 | 0.3289 | 0.3662630
6006320040 | 0.3289 | 0.3662630
6006320060 | 0.3289 | 0.3662630
6006320080 | 0.3289 | 0.3662630
6006330020 | 0.3289 | 0.3662630
6006330040 | 0.3289 | 0.3662630
6006330060 | 0.3289 | 0.3662630
6006330080 | 0.3289 | 0.3662630
6006340020 | 0.3289 | 0.3662630
6006340040 | 0.3289 | 0.3662630
6006340060 | 0.3289 | 0.3662630
6006340080 | 0.3289 | 0.3662630
6006410025 | 0.3289 | 0.3662630
6006410085 | 0.3289 | 0.3662630
6006420025 | 0.3289 | 0.3662630
6006420085 | 0.3289 | 0.3662630
6006430025 | 0.3289 | 0.3662630
6006430085 | 0.3289 | 0.3662630
6006440025 | 0.3289 | 0.3662630
6006440085 | 0.3289 | 0.3662630
6006909000 | 0.1096 | 0.1220506
6101200010 | 1.02 | 1.1358720
6101200020 | 1.02 | 1.1358720
6101301000 | 0.2072 | 0.2307379
6101900500 | 0.1912 | 0.2129203
6101909010 | 0.5737 | 0.6388723
6101909030 | 0.51 | 0.5679360
6101909060 | 0.255 | 0.2839680
6102100000 | 0.255 | 0.2839680
6102200010 | 0.9562 | 1.0648243
6102200020 | 0.9562 | 1.0648243
6102300500 | 0.1785 | 0.1987776
6102909005 | 0.5737 | 0.6388723
6102909015 | 0.4462 | 0.4968883
6102909030 | 0.255 | 0.2839680
6103101000 | 0.0637 | 0.0709363
6103104000 | 0.1218 | 0.1356365
6103105000 | 0.1218 | 0.1356365
6103106010 | 0.8528 | 0.9496781
6103106015 | 0.8528 | 0.9496781
6103106030 | 0.8528 | 0.9496781
6103109010 | 0.5482 | 0.6104755
6103109020 | 0.5482 | 0.6104755
6103109030 | 0.5482 | 0.6104755
6103109040 | 0.1218 | 0.1356365
6103109050 | 0.1218 | 0.1356365
6103109080 | 0.1827 | 0.2034547
6103320000 | 0.8722 | 0.9712819
6103398010 | 0.7476 | 0.8325274
6103398030 | 0.3738 | 0.4162637
6103398060 | 0.2492 | 0.2775091
6103411010 | 0.3576 | 0.3982234
6103411020 | 0.3576 | 0.3982234
6103412000 | 0.3576 | 0.3982234
6103421020 | 0.8343 | 0.9290765
6103421035 | 0.8343 | 0.9290765
6103421040 | 0.8343 | 0.9290765
6103421050 | 0.8343 | 0.9290765
6103421065 | 0.8343 | 0.9290765
6103421070 | 0.8343 | 0.9290765
6103422010 | 0.8343 | 0.9290765
6103422015 | 0.8343 | 0.9290765
6103422025 | 0.8343 | 0.9290765
6103431520 | 0.2384 | 0.2654822
6103431535 | 0.2384 | 0.2654822
6103431540 | 0.2384 | 0.2654822
6103431550 | 0.2384 | 0.2654822
6103431565 | 0.2384 | 0.2654822
6103431570 | 0.2384 | 0.2654822
6103432020 | 0.2384 | 0.2654822
6103432025 | 0.2384 | 0.2654822
6103491020 | 0.2437 | 0.2713843
6103491060 | 0.2437 | 0.2713843
6103492000 | 0.2437 | 0.2713843
6103498010 | 0.5482 | 0.6104755
6103498014 | 0.3655 | 0.4070208
6103498024 | 0.2437 | 0.2713843
6103498026 | 0.2437 | 0.2713843
6103498034 | 0.5482 | 0.6104755
6103498038 | 0.3655 | 0.4070208
6103498060 | 0.2437 | 0.2713843
6104196010 | 0.8722 | 0.9712819
6104196020 | 0.8722 | 0.9712819
6104196030 | 0.8722 | 0.9712819
6104196040 | 0.8722 | 0.9712819
6104198010 | 0.5607 | 0.6243955
6104198020 | 0.5607 | 0.6243955
6104198030 | 0.5607 | 0.6243955
6104198040 | 0.5607 | 0.6243955
6104198060 | 0.3738 | 0.4162637
6104198090 | 0.2492 | 0.2775091
6104320000 | 0.8722 | 0.9712819
6104392010 | 0.5607 | 0.6243955
6104392030 | 0.3738 | 0.4162637
6104392090 | 0.2492 | 0.2775091
6104420010 | 0.8528 | 0.9496781
6104420020 | 0.8528 | 0.9496781
6104499010 | 0.5482 | 0.6104755
6104499030 | 0.3655 | 0.4070208
6104499060 | 0.2437 | 0.2713843
6104520010 | 0.8822 | 0.9824179
6104520020 | 0.8822 | 0.9824179
6104598010 | 0.5672 | 0.6316339
6104598030 | 0.3781 | 0.4210522
6104598090 | 0.2521 | 0.2807386
6104610010 | 0.2384 | 0.2654822
6104610020 | 0.2384 | 0.2654822
6104610030 | 0.2384 | 0.2654822
6104621010 | 0.7509 | 0.8362022
6104621020 | 0.8343 | 0.9290765
6104621030 | 0.8343 | 0.9290765
6104622006 | 0.7151 | 0.7963354
6104622011 | 0.8343 | 0.9290765
6104622016 | 0.7151 | 0.7963354
6104622021 | 0.8343 | 0.9290765
6104622026 | 0.7151 | 0.7963354
6104622028 | 0.8343 | 0.9290765
6104622030 | 0.8343 | 0.9290765
6104622050 | 0.8343 | 0.9290765
6104622060 | 0.8343 | 0.9290765
6104631020 | 0.2384 | 0.2654822
6104631030 | 0.2384 | 0.2654822
6104632006 | 0.8343 | 0.9290765
6104632011 | 0.8343 | 0.9290765
6104632016 | 0.7151 | 0.7963354
6104632021 | 0.8343 | 0.9290765
6104632026 | 0.3576 | 0.3982234
6104632028 | 0.3576 | 0.3982234
6104632030 | 0.3576 | 0.3982234
6104632050 | 0.7151 | 0.7963354
6104632060 | 0.3576 | 0.3982234
6104691000 | 0.3655 | 0.4070208
6104692030 | 0.3655 | 0.4070208
6104692060 | 0.3655 | 0.4070208
6104698010 | 0.5482 | 0.6104755
6104698014 | 0.3655 | 0.4070208
6104698020 | 0.2437 | 0.2713843
6104698022 | 0.5482 | 0.6104755
6104698026 | 0.3655 | 0.4070208
6104698038 | 0.2437 | 0.2713843
6104698040 | 0.2437 | 0.2713843
6105100010 | 0.9332 | 1.0392115
6105100020 | 0.9332 | 1.0392115
6105100030 | 0.9332 | 1.0392115
6105202010 | 0.2916 | 0.3247258
6105202020 | 0.2916 | 0.3247258
6105202030 | 0.2916 | 0.3247258
6105908010 | 0.5249 | 0.5845286
6105908030 | 0.3499 | 0.3896486
6105908060 | 0.2333 | 0.2598029
6106100010 | 0.9332 | 1.0392115
6106100020 | 0.9332 | 1.0392115
6106100030 | 0.9332 | 1.0392115
6106202010 | 0.2916 | 0.3247258
6106202020 | 0.4666 | 0.5196058
6106202030 | 0.2916 | 0.3247258
6106901500 | 0.0583 | 0.0649229
6106902510 | 0.5249 | 0.5845286
6106902530 | 0.3499 | 0.3896486
6106902550 | 0.2916 | 0.3247258
6106903010 | 0.5249 | 0.5845286
6106903030 | 0.3499 | 0.3896486
6106903040 | 0.2916 | 0.3247258
6107110010 | 1.0727 | 1.1945587
6107110020 | 1.0727 | 1.1945587
6107120010 | 0.4767 | 0.5308531
6107120020 | 0.4767 | 0.5308531
6107191000 | 0.1192 | 0.1327411
6107210010 | 0.8343 | 0.9290765
6107210020 | 0.7151 | 0.7963354
6107220010 | 0.3576 | 0.3982234
6107220015 | 0.1192 | 0.1327411
6107220025 | 0.2384 | 0.2654822
6107299000 | 0.1788 | 0.1991117
6107910030 | 1.1918 | 1.3271885
6107910040 | 1.1918 | 1.3271885
6107910090 | 0.9535 | 1.0618176
6107991030 | 0.3576 | 0.3982234
6107991040 | 0.3576 | 0.3982234
6107991090 | 0.3576 | 0.3982234
6107999000 | 0.1192 | 0.1327411
6108199010 | 1.0611 | 1.1816410
6108199030 | 0.2358 | 0.2625869
6108210010 | 1.179 | 1.3129344
6108210020 | 1.179 | 1.3129344
6108299000 | 0.3537 | 0.3938803
6108310010 | 1.0611 | 1.1816410
6108310020 | 1.0611 | 1.1816410
6108320010 | 0.2358 | 0.2625869
6108320015 | 0.2358 | 0.2625869
6108320025 | 0.2358 | 0.2625869
6108398000 | 0.3537 | 0.3938803
6108910005 | 1.179 | 1.3129344
6108910015 | 1.179 | 1.3129344
6108910025 | 1.179 | 1.3129344
6108910030 | 1.179 | 1.3129344
6108910040 | 1.179 | 1.3129344
6108920005 | 0.2358 | 0.2625869
6108920015 | 0.2358 | 0.2625869
6108920025 | 0.2358 | 0.2625869
6108920030 | 0.2358 | 0.2625869
6108920040 | 0.2358 | 0.2625869
6108999000 | 0.3537 | 0.3938803
6109100004 | 1.0022 | 1.1160499
6109100007 | 1.0022 | 1.1160499
6109100011 | 1.0022 | 1.1160499
6109100012 | 1.0022 | 1.1160499
6109100014 | 1.0022 | 1.1160499
6109100018 | 1.0022 | 1.1160499
6109100023 | 1.0022 | 1.1160499
6109100027 | 1.0022 | 1.1160499
6109100037 | 1.0022 | 1.1160499
6109100040 | 1.0022 | 1.1160499
6109100045 | 1.0022 | 1.1160499
6109100060 | 1.0022 | 1.1160499
6109100065 | 1.0022 | 1.1160499
6109100070 | 1.0022 | 1.1160499
6109901007 | 0.2948 | 0.3282893
6109901009 | 0.2948 | 0.3282893
6109901013 | 0.2948 | 0.3282893
6109901025 | 0.2948 | 0.3282893
6109901047 | 0.2948 | 0.3282893
6109901049 | 0.2948 | 0.3282893
6109901050 | 0.2948 | 0.3282893
6109901060 | 0.2948 | 0.3282893
6109901065 | 0.2948 | 0.3282893
6109901070 | 0.2948 | 0.3282893
6109901075 | 0.2948 | 0.3282893
6109901090 | 0.2948 | 0.3282893
6109908010 | 0.3499 | 0.3896486
6109908030 | 0.2333 | 0.2598029
6110201010 | 0.7476 | 0.8325274
6110201020 | 0.7476 | 0.8325274
6110201022 | 0.7476 | 0.8325274
6110201024 | 0.7476 | 0.8325274
6110201026 | 0.7476 | 0.8325274
6110201029 | 0.7476 | 0.8325274
6110201031 | 0.7476 | 0.8325274
6110201033 | 0.7476 | 0.8325274
6110202005 | 1.1214 | 1.2487910
6110202010 | 1.1214 | 1.2487910
6110202015 | 1.1214 | 1.2487910
6110202020 | 1.1214 | 1.2487910
6110202025 | 1.1214 | 1.2487910
6110202030 | 1.1214 | 1.2487910
6110202035 | 1.1214 | 1.2487910
6110202041 | 1.0965 | 1.2210624
6110202044 | 1.0965 | 1.2210624
6110202046 | 1.0965 | 1.2210624
6110202049 | 1.0965 | 1.2210624
6110202067 | 1.0965 | 1.2210624
6110202069 | 1.0965 | 1.2210624
6110202077 | 1.0965 | 1.2210624
6110202079 | 1.0965 | 1.2210624
6110909010 | 0.5607 | 0.6243955
6110909012 | 0.1246 | 0.1387546
6110909014 | 0.3738 | 0.4162637
6110909026 | 0.5607 | 0.6243955
6110909028 | 0.1869 | 0.2081318
6110909030 | 0.3738 | 0.4162637
6110909044 | 0.5607 | 0.6243955
6110909046 | 0.5607 | 0.6243955
6110909052 | 0.3738 | 0.4162637
6110909054 | 0.3738 | 0.4162637
6110909064 | 0.2492 | 0.2775091
6110909066 | 0.2492 | 0.2775091
6110909067 | 0.5607 | 0.6243955
6110909069 | 0.5607 | 0.6243955
6110909071 | 0.5607 | 0.6243955
6110909073 | 0.5607 | 0.6243955
6110909079 | 0.3738 | 0.4162637
6110909080 | 0.3738 | 0.4162637
6110909081 | 0.3738 | 0.4162637
6110909082 | 0.3738 | 0.4162637
6110909088 | 0.2492 | 0.2775091
6110909090 | 0.2492 | 0.2775091
6111201000 | 1.1918 | 1.3271885
6111202000 | 1.1918 | 1.3271885
6111203000 | 0.9535 | 1.0618176
6111204000 | 0.9535 | 1.0618176
6111205000 | 0.9535 | 1.0618176
6111206010 | 0.9535 | 1.0618176
6111206020 | 0.9535 | 1.0618176
6111206030 | 0.9535 | 1.0618176
6111206050 | 0.9535 | 1.0618176
6111206070 | 0.9535 | 1.0618176
6111301000 | 0.2384 | 0.2654822
6111302000 | 0.2384 | 0.2654822
6111303000 | 0.2384 | 0.2654822
6111304000 | 0.2384 | 0.2654822
6111305010 | 0.2384 | 0.2654822
6111305015 | 0.2384 | 0.2654822
6111305020 | 0.2384 | 0.2654822
6111305030 | 0.2384 | 0.2654822
6111305050 | 0.2384 | 0.2654822
6111305070 | 0.2384 | 0.2654822
6111901000 | 0.2384 | 0.2654822
6111902000 | 0.2384 | 0.2654822
6111903000 | 0.2384 | 0.2654822
6111904000 | 0.2384 | 0.2654822
6111905010 | 0.2384 | 0.2654822
6111905020 | 0.2384 | 0.2654822
6111905030 | 0.2384 | 0.2654822
6111905050 | 0.2384 | 0.2654822
6111905070 | 0.2384 | 0.2654822
6112110010 | 0.9535 | 1.0618176
6112110020 | 0.9535 | 1.0618176
6112110030 | 0.9535 | 1.0618176
6112110040 | 0.9535 | 1.0618176
6112110050 | 0.9535 | 1.0618176
6112110060 | 0.9535 | 1.0618176
6112120010 | 0.2384 | 0.2654822
6112120020 | 0.2384 | 0.2654822
6112120030 | 0.2384 | 0.2654822
6112120040 | 0.2384 | 0.2654822
6112120050 | 0.2384 | 0.2654822
6112120060 | 0.2384 | 0.2654822
6112191010 | 0.2492 | 0.2775091
6112191020 | 0.2492 | 0.2775091
6112191030 | 0.2492 | 0.2775091
6112191040 | 0.2492 | 0.2775091
6112191050 | 0.2492 | 0.2775091
6112191060 | 0.2492 | 0.2775091
6112201060 | 0.2492 | 0.2775091
6112201070 | 0.2492 | 0.2775091
6112201080 | 0.2492 | 0.2775091
6112201090 | 0.2492 | 0.2775091
6112202010 | 0.8722 | 0.9712819
6112202020 | 0.3738 | 0.4162637
6112202030 | 0.2492 | 0.2775091
6112310010 | 0.1192 | 0.1327411
6112310020 | 0.1192 | 0.1327411
6112390010 | 1.0727 | 1.1945587
6112410010 | 0.1192 | 0.1327411
6112410020 | 0.1192 | 0.1327411
6112410030 | 0.1192 | 0.1327411
6112410040 | 0.1192 | 0.1327411
6112490010 | 0.8939 | 0.9954470
6113001005 | 0.1246 | 0.1387546
6113001010 | 0.1246 | 0.1387546
6113001012 | 0.1246 | 0.1387546
6113009015 | 0.3489 | 0.3885350
6113009020 | 0.3489 | 0.3885350
6113009038 | 0.3489 | 0.3885350
6113009042 | 0.3489 | 0.3885350
6113009055 | 0.3489 | 0.3885350
6113009060 | 0.3489 | 0.3885350
6113009074 | 0.3489 | 0.3885350
6113009082 | 0.3489 | 0.3885350
6114200005 | 0.9747 | 1.0854259
6114200010 | 0.9747 | 1.0854259
6114200015 | 0.8528 | 0.9496781
6114200020 | 0.8528 | 0.9496781
6114200035 | 0.8528 | 0.9496781
6114200040 | 0.8528 | 0.9496781
6114200042 | 0.3655 | 0.4070208
6114200044 | 0.8528 | 0.9496781
6114200046 | 0.8528 | 0.9496781
6114200048 | 0.8528 | 0.9496781
6114200052 | 0.8528 | 0.9496781
6114200055 | 0.8528 | 0.9496781
6114200060 | 0.8528 | 0.9496781
6114301010 | 0.2437 | 0.2713843
6114301020 | 0.2437 | 0.2713843
6114302060 | 0.1218 | 0.1356365
6114303014 | 0.2437 | 0.2713843
6114303020 | 0.2437 | 0.2713843
6114303030 | 0.2437 | 0.2713843
6114303042 | 0.2437 | 0.2713843
6114303044 | 0.2437 | 0.2713843
6114303052 | 0.2437 | 0.2713843
6114303054 | 0.2437 | 0.2713843
6114303060 | 0.2437 | 0.2713843
6114303070 | 0.2437 | 0.2713843
6114909045 | 0.5482 | 0.6104755
6114909055 | 0.3655 | 0.4070208
6114909070 | 0.3655 | 0.4070208
6115100500 | 0.4386 | 0.4884250
6115101510 | 1.0965 | 1.2210624
6115103000 | 0.9868 | 1.0989005
6115106000 | 0.1096 | 0.1220506
6115298010 | 1.0965 | 1.2210624
6115309030 | 0.7675 | 0.8546880
6115956000 | 0.9868 | 1.0989005
6115959000 | 0.9868 | 1.0989005
6115966020 | 0.2193 | 0.2442125
6115991420 | 0.2193 | 0.2442125
6115991920 | 0.2193 | 0.2442125
6115999000 | 0.1096 | 0.1220506
6116101300 | 0.3463 | 0.3856397
6116101720 | 0.8079 | 0.8996774
6116104810 | 0.4444 | 0.4948838
6116105510 | 0.6464 | 0.7198310
6116107510 | 0.6464 | 0.7198310
6116109500 | 0.1616 | 0.1799578
6116920500 | 0.8079 | 0.8996774
6116920800 | 0.8079 | 0.8996774
6116926410 | 1.0388 | 1.1568077
6116926420 | 1.0388 | 1.1568077
6116926430 | 1.1542 | 1.2853171
6116926440 | 1.0388 | 1.1568077
6116927450 | 1.0388 | 1.1568077
6116927460 | 1.1542 | 1.2853171
6116927470 | 1.0388 | 1.1568077
6116928800 | 1.0388 | 1.1568077
6116929400 | 1.0388 | 1.1568077
6116938800 | 0.1154 | 0.1285094
6116939400 | 0.1154 | 0.1285094
6116994800 | 0.1154 | 0.1285094
6116995400 | 0.1154 | 0.1285094
6116999510 | 0.4617 | 0.5141491
6116999530 | 0.3463 | 0.3856397
6117106010 | 0.9234 | 1.0282982
6117106020 | 0.2308 | 0.2570189
6117808500 | 0.9234 | 1.0282982
6117808710 | 1.1542 | 1.2853171
6117808770 | 0.1731 | 0.1927642
6117809510 | 0.9234 | 1.0282982
6117809540 | 0.3463 | 0.3856397
6117809570 | 0.1731 | 0.1927642
6117909003 | 1.1542 | 1.2853171
6117909015 | 0.2308 | 0.2570189
6117909020 | 1.1542 | 1.2853171
6117909040 | 1.1542 | 1.2853171
6117909060 | 1.1542 | 1.2853171
6117909080 | 1.1542 | 1.2853171
6201121000 | 0.8981 | 1.0001242
6201122010 | 0.8482 | 0.9445555
6201122020 | 0.8482 | 0.9445555
6201122025 | 0.9979 | 1.1112614
6201122035 | 0.9979 | 1.1112614
6201122050 | 0.6486 | 0.7222810
6201122060 | 0.6486 | 0.7222810
6201134015 | 0.1996 | 0.2222746
6201134020 | 0.1996 | 0.2222746
6201134030 | 0.2495 | 0.2778432
6201134040 | 0.2495 | 0.2778432
6201199010 | 0.5613 | 0.6250637
6201199030 | 0.3742 | 0.4167091
6201199060 | 0.3742 | 0.4167091
6201920500 | 0.8779 | 0.9776294
6201921700 | 1.0974 | 1.2220646
6201921905 | 0.9754 | 1.0862054
6201921910 | 0.9754 | 1.0862054
6201921921 | 1.2193 | 1.3578125
6201921931 | 1.2193 | 1.3578125
6201921941 | 1.2193 | 1.3578125
6201921951 | 0.9754 | 1.0862054
6201921961 | 0.9754 | 1.0862054
6201923000 | 0.8779 | 0.9776294
6201923500 | 1.0974 | 1.2220646
6201924505 | 0.9754 | 1.0862054
6201924510 | 0.9754 | 1.0862054
6201924521 | 1.2193 | 1.3578125
6201924531 | 1.2193 | 1.3578125
6201924541 | 1.2193 | 1.3578125
6201924551 | 0.9754 | 1.0862054
6201924561 | 0.9754 | 1.0862054
6201931500 | 0.2926 | 0.3258394
6201931810 | 0.2439 | 0.2716070
6201931820 | 0.2439 | 0.2716070
6201934911 | 0.2439 | 0.2716070
6201934921 | 0.2439 | 0.2716070
6201935000 | 0.2926 | 0.3258394
6201935210 | 0.2439 | 0.2716070
6201935220 | 0.2439 | 0.2716070
6201936511 | 0.2439 | 0.2716070
6201936521 | 0.2439 | 0.2716070
6201991510 | 0.5487 | 0.6110323
6201991530 | 0.3658 | 0.4073549
6201991560 | 0.2439 | 0.2716070
6201998010 | 0.5487 | 0.6110323
6201998030 | 0.3658 | 0.4073549
6201998060 | 0.2439 | 0.2716070
6202121000 | 0.8879 | 0.9887654
6202122010 | 1.0482 | 1.1672755
6202122020 | 1.0482 | 1.1672755
6202122025 | 1.2332 | 1.3732915
6202122035 | 1.2332 | 1.3732915
6202122050 | 0.8016 | 0.8926618
6202122060 | 0.8016 | 0.8926618
6202134005 | 0.2524 | 0.2810726
6202134010 | 0.2524 | 0.2810726
6202134020 | 0.3155 | 0.3513408
6202134030 | 0.3155 | 0.3513408
6202199010 | 0.5678 | 0.6323021
6202199030 | 0.3786 | 0.4216090
6202199060 | 0.2524 | 0.2810726
6202920300 | 0.9865 | 1.0985664
6202920500 | 0.9865 | 1.0985664
6202921210 | 0.9865 | 1.0985664
6202921220 | 0.9865 | 1.0985664
6202921226 | 1.2332 | 1.3732915
6202921231 | 1.2332 | 1.3732915
6202921261 | 0.9865 | 1.0985664
6202921271 | 0.9865 | 1.0985664
6202922500 | 0.9865 | 1.0985664
6202923000 | 0.9865 | 1.0985664
6202929010 | 0.9865 | 1.0985664
6202929020 | 0.9865 | 1.0985664
6202929026 | 1.2332 | 1.3732915
6202929031 | 1.2332 | 1.3732915
6202929061 | 0.9865 | 1.0985664
6202929071 | 0.9865 | 1.0985664
6202930100 | 0.296 | 0.3296256
6202930310 | 0.2466 | 0.2746138
6202930320 | 0.2466 | 0.2746138
6202930911 | 0.2466 | 0.2746138
6202930921 | 0.2466 | 0.2746138
6202931500 | 0.296 | 0.3296256
6202932510 | 0.2466 | 0.2746138
6202932520 | 0.2466 | 0.2746138
6202935511 | 0.2466 | 0.2746138
6202935521 | 0.2466 | 0.2746138
6202991511 | 0.5549 | 0.6179366
6202991531 | 0.37 | 0.4120320
6202991561 | 0.2466 | 0.2746138
6202998011 | 0.5549 | 0.6179366
6202998031 | 0.37 | 0.4120320
6202998061 | 0.2466 | 0.2746138
6203122010 | 0.1233 | 0.1373069
6203122020 | 0.1233 | 0.1373069
6203191010 | 0.9865 | 1.0985664
6203191020 | 0.9865 | 1.0985664
6203191030 | 0.9865 | 1.0985664
6203199010 | 0.5549 | 0.6179366
6203199020 | 0.5549 | 0.6179366
6203199030 | 0.5549 | 0.6179366
6203199050 | 0.37 | 0.4120320
6203199080 | 0.2466 | 0.2746138
6203221000 | 1.2332 | 1.3732915
6203321000 | 0.6782 | 0.7552435
6203322010 | 1.1715 | 1.3045824
6203322020 | 1.1715 | 1.3045824
6203322030 | 1.1715 | 1.3045824
6203322040 | 1.1715 | 1.3045824
6203322050 | 1.1715 | 1.3045824
6203332010 | 0.1233 | 0.1373069
6203332020 | 0.1233 | 0.1373069
6203392010 | 0.1233 | 0.1373069
6203392020 | 0.1233 | 0.1373069
6203399010 | 0.5549 | 0.6179366
6203399030 | 0.37 | 0.4120320
6203399060 | 0.2466 | 0.2746138
6203420300 | 1.0616 | 1.1821978
6203420505 | 0.7077 | 0.7880947
6203420510 | 0.9436 | 1.0507930
6203420525 | 0.9436 | 1.0507930
6203420550 | 0.9436 | 1.0507930
6203420590 | 0.9436 | 1.0507930
6203420703 | 1.0616 | 1.1821978
6203420706 | 1.1796 | 1.3136026
6203420711 | 1.1796 | 1.3136026
6203420716 | 0.9436 | 1.0507930
6203420721 | 1.1796 | 1.3136026
6203420726 | 1.1796 | 1.3136026
6203420731 | 1.1796 | 1.3136026
6203420736 | 1.1796 | 1.3136026
6203420741 | 0.9436 | 1.0507930
6203420746 | 0.9436 | 1.0507930
6203420751 | 0.8752 | 0.9746227
6203420756 | 0.8752 | 0.9746227
6203420761 | 0.8752 | 0.9746227
6203421700 | 1.0616 | 1.1821978
6203422505 | 0.7077 | 0.7880947
6203422510 | 0.9436 | 1.0507930
6203422525 | 0.9436 | 1.0507930
6203422550 | 0.9436 | 1.0507930
6203422590 | 0.9436 | 1.0507930
6203424503 | 1.0616 | 1.1821978
6203424506 | 1.1796 | 1.3136026
6203424511 | 1.1796 | 1.3136026
6203424516 | 0.9436 | 1.0507930
6203424521 | 1.1796 | 1.3136026
6203424526 | 1.1796 | 1.3136026
6203424531 | 1.1796 | 1.3136026
6203424536 | 1.1796 | 1.3136026
6203424541 | 0.9436 | 1.0507930
6203424546 | 0.9436 | 1.0507930
6203424551 | 0.8752 | 0.9746227
6203424556 | 0.8752 | 0.9746227
6203424561 | 0.8752 | 0.9746227
6203430100 | 0.1887 | 0.2101363
6203430300 | 0.118 | 0.1314048
6203430505 | 0.118 | 0.1314048
6203430510 | 0.2359 | 0.2626982
6203430525 | 0.2359 | 0.2626982
6203430550 | 0.2359 | 0.2626982
6203430590 | 0.2359 | 0.2626982
6203431110 | 0.059 | 0.0657024
6203431190 | 0.059 | 0.0657024
6203431310 | 0.1167 | 0.1299571
6203431315 | 0.1167 | 0.1299571
6203431320 | 0.1167 | 0.1299571
6203431330 | 0.1167 | 0.1299571
6203431335 | 0.1167 | 0.1299571
6203431340 | 0.1167 | 0.1299571
6203434500 | 0.1887 | 0.2101363
6203435500 | 0.118 | 0.1314048
6203436005 | 0.118 | 0.1314048
6203436010 | 0.2359 | 0.2626982
6203436025 | 0.2359 | 0.2626982
6203436050 | 0.2359 | 0.2626982
6203436090 | 0.2359 | 0.2626982
6203436500 | 0.4128 | 0.4596941
6203437510 | 0.059 | 0.0657024
6203437590 | 0.059 | 0.0657024
6203439010 | 0.1167 | 0.1299571
6203439015 | 0.1167 | 0.1299571
6203439020 | 0.1167 | 0.1299571
6203439030 | 0.1167 | 0.1299571
6203439035 | 0.1167 | 0.1299571
6203439040 | 0.1167 | 0.1299571
6203490105 | 0.118 | 0.1314048
6203490110 | 0.2359 | 0.2626982
6203490125 | 0.2359 | 0.2626982
6203490150 | 0.2359 | 0.2626982
6203490190 | 0.2359 | 0.2626982
6203490515 | 0.2359 | 0.2626982
6203490520 | 0.2359 | 0.2626982
6203490530 | 0.118 | 0.1314048
6203490545 | 0.118 | 0.1314048
6203490550 | 0.118 | 0.1314048
6203490560 | 0.118 | 0.1314048
6203490920 | 0.5308 | 0.5910989
6203490930 | 0.3539 | 0.3941030
6203490945 | 0.2359 | 0.2626982
6203492505 | 0.118 | 0.1314048
6203492510 | 0.2359 | 0.2626982
6203492525 | 0.2359 | 0.2626982
6203492550 | 0.2359 | 0.2626982
6203492590 | 0.2359 | 0.2626982
6203493500 | 0.4128 | 0.4596941
6203495015 | 0.2359 | 0.2626982
6203495020 | 0.2359 | 0.2626982
6203495030 | 0.118 | 0.1314048
6203495045 | 0.118 | 0.1314048
6203495050 | 0.118 | 0.1314048
6203495060 | 0.118 | 0.1314048
6203499020 | 0.5308 | 0.5910989
6203499030 | 0.3539 | 0.3941030
6203499045 | 0.2359 | 0.2626982
6204110000 | 0.0617 | 0.0687091
6204120010 | 0.9865 | 1.0985664
6204120020 | 0.9865 | 1.0985664
6204120030 | 0.9865 | 1.0985664
6204120040 | 0.9865 | 1.0985664
6204132010 | 0.1233 | 0.1373069
6204132020 | 0.1233 | 0.1373069
6204192000 | 0.1233 | 0.1373069
6204198010 | 0.5549 | 0.6179366
6204198020 | 0.5549 | 0.6179366
6204198030 | 0.5549 | 0.6179366
6204198040 | 0.5549 | 0.6179366
6204198060 | 0.3083 | 0.3433229
6204198090 | 0.2466 | 0.2746138
6204221000 | 1.2332 | 1.3732915
6204321000 | 0.6782 | 0.7552435
6204322010 | 1.1715 | 1.3045824
6204322020 | 1.1715 | 1.3045824
6204322030 | 0.9865 | 1.0985664
6204322040 | 0.9865 | 1.0985664
6204398010 | 0.5549 | 0.6179366
6204398030 | 0.3083 | 0.3433229
6204412010 | 0.0603 | 0.0671501
6204412020 | 0.0603 | 0.0671501
6204421000 | 1.2058 | 1.3427789
6204422000 | 0.6632 | 0.7385395
6204423010 | 1.2058 | 1.3427789
6204423020 | 1.2058 | 1.3427789
6204423030 | 0.9043 | 1.0070285
6204423040 | 0.9043 | 1.0070285
6204423050 | 0.9043 | 1.0070285
6204423060 | 0.9043 | 1.0070285
6204431000 | 0.4823 | 0.5370893
6204432000 | 0.0603 | 0.0671501
6204442000 | 0.4316 | 0.4806298
6204495010 | 0.5549 | 0.6179366
6204495030 | 0.2466 | 0.2746138
6204510010 | 0.0631 | 0.0702682
6204510020 | 0.0631 | 0.0702682
6204521000 | 1.2618 | 1.4051405
6204522010 | 1.1988 | 1.3349837
6204522020 | 1.1988 | 1.3349837
6204522030 | 1.1988 | 1.3349837
6204522040 | 1.1988 | 1.3349837
6204522070 | 1.0095 | 1.1241792
6204522080 | 1.0095 | 1.1241792
6204531000 | 0.4416 | 0.4917658
6204532010 | 0.0631 | 0.0702682
6204532020 | 0.0631 | 0.0702682
6204533010 | 0.2524 | 0.2810726
6204533020 | 0.2524 | 0.2810726
6204591000 | 0.4416 | 0.4917658
6204594010 | 0.5678 | 0.6323021
6204594030 | 0.2524 | 0.2810726
6204594060 | 0.2524 | 0.2810726
6204610510 | 0.059 | 0.0657024
6204610520 | 0.059 | 0.0657024
6204611510 | 0.059 | 0.0657024
6204611520 | 0.059 | 0.0657024
6204611530 | 0.059 | 0.0657024
6204611540 | 0.118 | 0.1314048
6204616010 | 0.059 | 0.0657024
6204616020 | 0.059 | 0.0657024
6204618010 | 0.059 | 0.0657024
6204618020 | 0.059 | 0.0657024
6204618030 | 0.059 | 0.0657024
6204618040 | 0.118 | 0.1314048
6204620300 | 0.8681 | 0.9667162
6204620505 | 0.7077 | 0.7880947
6204620510 | 0.9436 | 1.0507930
6204620525 | 0.9436 | 1.0507930
6204620550 | 0.9436 | 1.0507930
6204621503 | 1.0616 | 1.1821978
6204621506 | 1.1796 | 1.3136026
6204621511 | 1.1796 | 1.3136026
6204621521 | 0.9436 | 1.0507930
6204621526 | 1.1796 | 1.3136026
6204621531 | 1.1796 | 1.3136026
6204621536 | 1.1796 | 1.3136026
6204621541 | 1.1796 | 1.3136026
6204621546 | 0.9436 | 1.0507930
6204621551 | 0.9436 | 1.0507930
6204621556 | 0.9335 | 1.0395456
6204621561 | 0.9335 | 1.0395456
6204621566 | 0.9335 | 1.0395456
6204625000 | 0.8681 | 0.9667162
6204626005 | 0.7077 | 0.7880947
6204626010 | 0.9436 | 1.0507930
6204626025 | 0.9436 | 1.0507930
6204626050 | 0.9436 | 1.0507930
6204627000 | 1.1796 | 1.3136026
6204628003 | 1.0616 | 1.1821978
6204628006 | 1.1796 | 1.3136026
6204628011 | 1.1796 | 1.3136026
6204628021 | 0.9436 | 1.0507930
6204628026 | 1.1796 | 1.3136026
6204628031 | 1.1796 | 1.3136026
6204628036 | 1.1796 | 1.3136026
6204628041 | 1.1796 | 1.3136026
6204628046 | 0.9436 | 1.0507930
6204628051 | 0.9436 | 1.0507930
6204628056 | 0.9335 | 1.0395456
6204628061 | 0.9335 | 1.0395456
6204628066 | 0.9335 | 1.0395456
6204630100 | 0.2019 | 0.2248358
6204630200 | 0.118 | 0.1314048
6204630305 | 0.118 | 0.1314048
6204630310 | 0.2359 | 0.2626982
6204630325 | 0.2359 | 0.2626982
6204630350 | 0.2359 | 0.2626982
6204630810 | 0.059 | 0.0657024
6204630820 | 0.059 | 0.0657024
6204630910 | 0.0603 | 0.0671501
6204630990 | 0.0603 | 0.0671501
6204631110 | 0.2412 | 0.2686003
6204631125 | 0.2412 | 0.2686003
6204631130 | 0.2412 | 0.2686003
6204631132 | 0.2309 | 0.2571302
6204631135 | 0.2309 | 0.2571302
6204631140 | 0.2309 | 0.2571302
6204635000 | 0.2019 | 0.2248358
6204635500 | 0.118 | 0.1314048
6204636005 | 0.118 | 0.1314048
6204636010 | 0.2359 | 0.2626982
6204636025 | 0.2359 | 0.2626982
6204636050 | 0.2359 | 0.2626982
6204636500 | 0.4718 | 0.5253965
6204637010 | 0.059 | 0.0657024
6204637020 | 0.059 | 0.0657024
6204637510 | 0.0603 | 0.0671501
6204637590 | 0.0603 | 0.0671501
6204639010 | 0.2412 | 0.2686003
6204639025 | 0.2412 | 0.2686003
6204639030 | 0.2412 | 0.2686003
6204639032 | 0.2309 | 0.2571302
6204639035 | 0.2309 | 0.2571302
6204639040 | 0.2309 | 0.2571302
6204690105 | 0.118 | 0.1314048
6204690110 | 0.2359 | 0.2626982
6204690110 | 0.2359 | 0.2626982
6204690125 | 0.2359 | 0.2626982
6204690150 | 0.2359 | 0.2626982
6204690210 | 0.059 | 0.0657024
6204690220 | 0.059 | 0.0657024
6204690230 | 0.059 | 0.0657024
6204690310 | 0.2359 | 0.2626982
6204690320 | 0.2359 | 0.2626982
6204690330 | 0.2359 | 0.2626982
6204690340 | 0.2309 | 0.2571302
6204690350 | 0.2309 | 0.2571302
6204690360 | 0.2309 | 0.2571302
6204690510 | 0.5308 | 0.5910989
6204690530 | 0.2359 | 0.2626982
6204690570 | 0.3539 | 0.3941030
6204690610 | 0.5308 | 0.5910989
6204690630 | 0.2359 | 0.2626982
6204690644 | 0.2359 | 0.2626982
6204690646 | 0.2359 | 0.2626982
6204690650 | 0.3539 | 0.3941030
6204691505 | 0.118 | 0.1314048
6204691510 | 0.2359 | 0.2626982
6204691525 | 0.2359 | 0.2626982
6204691525 | 0.2359 | 0.2626982
6204691550 | 0.2359 | 0.2626982
6204692210 | 0.059 | 0.0657024
6204692220 | 0.059 | 0.0657024
6204692230 | 0.059 | 0.0657024
6204692810 | 0.2359 | 0.2626982
6204692820 | 0.2359 | 0.2626982
6204692830 | 0.2359 | 0.2626982
6204692840 | 0.2309 | 0.2571302
6204692850 | 0.2309 | 0.2571302
6204692860 | 0.2309 | 0.2571302
6204696510 | 0.5308 | 0.5910989
6204696530 | 0.2359 | 0.2626982
6204696570 | 0.3539 | 0.3941030
6204698010 | 0.5308 | 0.5910989
6204698030 | 0.2359 | 0.2626982
6204698044 | 0.2359 | 0.2626982
6204698046 | 0.2359 | 0.2626982
6204698050 | 0.3539 | 0.3941030
6205201000 | 1.1796 | 1.3136026
6205202003 | 0.9436 | 1.0507930
6205202016 | 0.9436 | 1.0507930
6205202021 | 0.9436 | 1.0507930
6205202026 | 0.9436 | 1.0507930
6205202031 | 0.9436 | 1.0507930
6205202036 | 1.0616 | 1.1821978
6205202041 | 1.0616 | 1.1821978
6205202044 | 1.0616 | 1.1821978
6205202047 | 0.9436 | 1.0507930
6205202051 | 0.9436 | 1.0507930
6205202056 | 0.9436 | 1.0507930
6205202061 | 0.9436 | 1.0507930
6205202066 | 0.9436 | 1.0507930
6205202071 | 0.9436 | 1.0507930
6205202076 | 0.9436 | 1.0507930
6205301000 | 0.4128 | 0.4596941
6205302010 | 0.2949 | 0.3284006
6205302020 | 0.2949 | 0.3284006
6205302030 | 0.2949 | 0.3284006
6205302040 | 0.2949 | 0.3284006
6205302050 | 0.2949 | 0.3284006
6205302055 | 0.2949 | 0.3284006
6205302060 | 0.2949 | 0.3284006
6205302070 | 0.2949 | 0.3284006
6205302075 | 0.2949 | 0.3284006
6205302080 | 0.2949 | 0.3284006
6205900710 | 0.118 | 0.1314048
6205900720 | 0.118 | 0.1314048
6205901000 | 0.2359 | 0.2626982
6205903010 | 0.5308 | 0.5910989
6205903030 | 0.2359 | 0.2626982
6205903050 | 0.1769 | 0.1969958
6205904010 | 0.5308 | 0.5910989
6205904030 | 0.2359 | 0.2626982
6205904040 | 0.2359 | 0.2626982
6206100010 | 0.5308 | 0.5910989
6206100030 | 0.2359 | 0.2626982
6206100040 | 0.118 | 0.1314048
6206100050 | 0.2359 | 0.2626982
6206203010 | 0.059 | 0.0657024
6206203020 | 0.059 | 0.0657024
6206301000 | 1.1796 | 1.3136026
6206302000 | 0.6488 | 0.7225037
6206303003 | 0.9436 | 1.0507930
6206303011 | 0.9436 | 1.0507930
6206303021 | 0.9436 | 1.0507930
6206303031 | 0.9436 | 1.0507930
6206303041 | 0.9436 | 1.0507930
6206303051 | 0.9436 | 1.0507930
6206303061 | 0.9436 | 1.0507930
6206401000 | 0.4128 | 0.4596941
6206403010 | 0.2949 | 0.3284006
6206403020 | 0.2949 | 0.3284006
6206403025 | 0.2949 | 0.3284006
6206403030 | 0.2949 | 0.3284006
6206403040 | 0.2949 | 0.3284006
6206403050 | 0.2949 | 0.3284006
6206900010 | 0.5308 | 0.5910989
6206900030 | 0.2359 | 0.2626982
6206900040 | 0.1769 | 0.1969958
6207110000 | 1.0281 | 1.1448922
6207199010 | 0.3427 | 0.3816307
6207199030 | 0.4569 | 0.5088038
6207210010 | 1.0502 | 1.1695027
6207210020 | 1.0502 | 1.1695027
6207210030 | 1.0502 | 1.1695027
6207210040 | 1.0502 | 1.1695027
6207220000 | 0.3501 | 0.3898714
6207291000 | 0.1167 | 0.1299571
6207299030 | 0.1167 | 0.1299571
6207911000 | 1.0852 | 1.2084787
6207913010 | 1.0852 | 1.2084787
6207913020 | 1.0852 | 1.2084787
6207997520 | 0.2412 | 0.2686003
6207998510 | 0.2412 | 0.2686003
6207998520 | 0.2412 | 0.2686003
6208110000 | 0.2412 | 0.2686003
6208192000 | 1.0852 | 1.2084787
6208195000 | 0.1206 | 0.1343002
6208199000 | 0.2412 | 0.2686003
6208210010 | 1.0026 | 1.1164954
6208210020 | 1.0026 | 1.1164954
6208210030 | 1.0026 | 1.1164954
6208220000 | 0.118 | 0.1314048
6208299030 | 0.2359 | 0.2626982
6208911010 | 1.0852 | 1.2084787
6208911020 | 1.0852 | 1.2084787
6208913010 | 1.0852 | 1.2084787
6208913020 | 1.0852 | 1.2084787
6208920010 | 0.1206 | 0.1343002
6208920020 | 0.1206 | 0.1343002
6208920030 | 0.1206 | 0.1343002
6208920040 | 0.1206 | 0.1343002
6208992010 | 0.0603 | 0.0671501
6208992020 | 0.0603 | 0.0671501
6208995010 | 0.2412 | 0.2686003
6208995020 | 0.2412 | 0.2686003
6208998010 | 0.2412 | 0.2686003
6208998020 | 0.2412 | 0.2686003
6209201000 | 1.0967 | 1.2212851
6209202000 | 1.039 | 1.1570304
6209203000 | 0.9236 | 1.0285210
6209205030 | 0.9236 | 1.0285210
6209205035 | 0.9236 | 1.0285210
6209205045 | 0.9236 | 1.0285210
6209205050 | 0.9236 | 1.0285210
6209301000 | 0.2917 | 0.3248371
6209302000 | 0.2917 | 0.3248371
6209303010 | 0.2334 | 0.2599142
6209303020 | 0.2334 | 0.2599142
6209303030 | 0.2334 | 0.2599142
6209303040 | 0.2334 | 0.2599142
6209900500 | 0.1154 | 0.1285094
6209901000 | 0.2917 | 0.3248371
6209902000 | 0.2917 | 0.3248371
6209903010 | 0.2917 | 0.3248371
6209903015 | 0.2917 | 0.3248371
6209903020 | 0.2917 | 0.3248371
6209903030 | 0.2917 | 0.3248371
6209903040 | 0.2917 | 0.3248371
6210109010 | 0.217 | 0.2416512
6210109040 | 0.217 | 0.2416512
6210203000 | 0.0362 | 0.0403123
6210205000 | 0.0844 | 0.0939878
6210207000 | 0.1809 | 0.2014502
6210303000 | 0.0362 | 0.0403123
6210305000 | 0.0844 | 0.0939878
6210307000 | 0.0362 | 0.0403123
6210309020 | 0.422 | 0.4699392
6210401500 | 0.037 | 0.0412032
6210402520 | 0.4316 | 0.4806298
6210402531 | 0.0863 | 0.0961037
6210402539 | 0.0863 | 0.0961037
6210402540 | 0.4316 | 0.4806298
6210402550 | 0.4316 | 0.4806298
6210402800 | 0.111 | 0.1236096
6210402925 | 0.111 | 0.1236096
6210402933 | 0.111 | 0.1236096
6210402945 | 0.111 | 0.1236096
6210402960 | 0.111 | 0.1236096
6210403500 | 0.037 | 0.0412032
6210405520 | 0.4316 | 0.4806298
6210405531 | 0.0863 | 0.0961037
6210405539 | 0.0863 | 0.0961037
6210405540 | 0.4316 | 0.4806298
6210405550 | 0.4316 | 0.4806298
6210407500 | 0.111 | 0.1236096
6210408025 | 0.111 | 0.1236096
6210408033 | 0.111 | 0.1236096
6210408045 | 0.111 | 0.1236096
6210408060 | 0.111 | 0.1236096
6210500300 | 0.037 | 0.0412032
6210500520 | 0.0863 | 0.0961037
6210500531 | 0.0863 | 0.0961037
6210500539 | 0.0863 | 0.0961037
6210500540 | 0.0863 | 0.0961037
6210500555 | 0.0863 | 0.0961037
6210501200 | 0.4316 | 0.4806298
6210502250 | 0.148 | 0.1648128
6210502260 | 0.148 | 0.1648128
6210502270 | 0.148 | 0.1648128
6210502290 | 0.148 | 0.1648128
6210503500 | 0.037 | 0.0412032
6210505520 | 0.0863 | 0.0961037
6210505531 | 0.0863 | 0.0961037
6210505539 | 0.0863 | 0.0961037
6210505540 | 0.0863 | 0.0961037
6210505555 | 0.0863 | 0.0961037
6210507500 | 0.4316 | 0.4806298
6210508050 | 0.148 | 0.1648128
6210508060 | 0.148 | 0.1648128
6210508070 | 0.148 | 0.1648128
6210508090 | 0.148 | 0.1648128
6211111010 | 0.1206 | 0.1343002
6211111020 | 0.1206 | 0.1343002
6211118010 | 1.0852 | 1.2084787
6211118020 | 1.0852 | 1.2084787
6211118040 | 0.2412 | 0.2686003
6211121010 | 0.0603 | 0.0671501
6211121020 | 0.0603 | 0.0671501
6211128010 | 1.0852 | 1.2084787
6211128020 | 1.0852 | 1.2084787
6211128030 | 0.6029 | 0.6713894
6211200410 | 0.7717 | 0.8593651
6211200420 | 0.0965 | 0.1074624
6211200430 | 0.7717 | 0.8593651
6211200440 | 0.0965 | 0.1074624
6211200810 | 0.3858 | 0.4296269
6211200820 | 0.3858 | 0.4296269
6211201510 | 0.7615 | 0.8480064
6211201515 | 0.2343 | 0.2609165
6211201520 | 0.6443 | 0.7174925
6211201525 | 0.2929 | 0.3261734
6211201530 | 0.7615 | 0.8480064
6211201535 | 0.3515 | 0.3914304
6211201540 | 0.7615 | 0.8480064
6211201545 | 0.2929 | 0.3261734
6211201550 | 0.7615 | 0.8480064
6211201555 | 0.41 | 0.4565760
6211201560 | 0.7615 | 0.8480064
6211201565 | 0.2343 | 0.2609165
6211202400 | 0.1233 | 0.1373069
6211202810 | 0.8016 | 0.8926618
6211202820 | 0.2466 | 0.2746138
6211202830 | 0.3083 | 0.3433229
6211203400 | 0.1233 | 0.1373069
6211203810 | 0.8016 | 0.8926618
6211203820 | 0.2466 | 0.2746138
6211203830 | 0.3083 | 0.3433229
6211204400 | 0.1233 | 0.1373069
6211204815 | 0.8016 | 0.8926618
6211204835 | 0.2466 | 0.2746138
6211204860 | 0.3083 | 0.3433229
6211205400 | 0.1233 | 0.1373069
6211205810 | 0.8016 | 0.8926618
6211205820 | 0.2466 | 0.2746138
6211205830 | 0.3083 | 0.3433229
6211206400 | 0.1233 | 0.1373069
6211206810 | 0.8016 | 0.8926618
6211206820 | 0.2466 | 0.2746138
6211206830 | 0.3083 | 0.3433229
6211207400 | 0.1233 | 0.1373069
6211207810 | 0.9249 | 1.0299686
6211207820 | 0.2466 | 0.2746138
6211207830 | 0.3083 | 0.3433229
6211325003 | 0.6412 | 0.7140403
6211325007 | 0.8016 | 0.8926618
6211325010 | 0.9865 | 1.0985664
6211325015 | 0.9865 | 1.0985664
6211325025 | 0.9865 | 1.0985664
6211325030 | 0.9249 | 1.0299686
6211325040 | 0.9249 | 1.0299686
6211325050 | 0.9249 | 1.0299686
6211325060 | 0.9249 | 1.0299686
6211325070 | 0.9249 | 1.0299686
6211325075 | 0.9249 | 1.0299686
6211325081 | 0.9249 | 1.0299686
6211329003 | 0.6412 | 0.7140403
6211329007 | 0.8016 | 0.8926618
6211329010 | 0.9865 | 1.0985664
6211329015 | 0.9865 | 1.0985664
6211329025 | 0.9865 | 1.0985664
6211329030 | 0.9249 | 1.0299686
6211329040 | 0.9249 | 1.0299686
6211329050 | 0.9249 | 1.0299686
6211329060 | 0.9249 | 1.0299686
6211329070 | 0.9249 | 1.0299686
6211329075 | 0.9249 | 1.0299686
6211329081 | 0.9249 | 1.0299686
6211335003 | 0.0987 | 0.1099123
6211335007 | 0.1233 | 0.1373069
6211335010 | 0.3083 | 0.3433229
6211335015 | 0.3083 | 0.3433229
6211335017 | 0.3083 | 0.3433229
6211335025 | 0.37 | 0.4120320
6211335030 | 0.37 | 0.4120320
6211335035 | 0.37 | 0.4120320
6211335040 | 0.37 | 0.4120320
6211335054 | 0.37 | 0.4120320
6211335058 | 0.37 | 0.4120320
6211335061 | 0.37 | 0.4120320
6211339003 | 0.0987 | 0.1099123
6211339007 | 0.1233 | 0.1373069
6211339010 | 0.3083 | 0.3433229
6211339015 | 0.3083 | 0.3433229
6211339017 | 0.3083 | 0.3433229
6211339025 | 0.37 | 0.4120320
6211339030 | 0.37 | 0.4120320
6211339035 | 0.37 | 0.4120320
6211339040 | 0.37 | 0.4120320
6211339054 | 0.37 | 0.4120320
6211339058 | 0.37 | 0.4120320
6211339061 | 0.37 | 0.4120320
6211390310 | 0.1233 | 0.1373069
6211390320 | 0.1233 | 0.1373069
6211390330 | 0.1233 | 0.1373069
6211390340 | 0.1233 | 0.1373069
6211390345 | 0.1233 | 0.1373069
6211390351 | 0.1233 | 0.1373069
6211391510 | 0.2466 | 0.2746138
6211391520 | 0.2466 | 0.2746138
6211391530 | 0.2466 | 0.2746138
6211391540 | 0.2466 | 0.2746138
6211391550 | 0.2466 | 0.2746138
6211391560 | 0.2466 | 0.2746138
6211391570 | 0.2466 | 0.2746138
6211391590 | 0.2466 | 0.2746138
6211393010 | 0.1233 | 0.1373069
6211393020 | 0.1233 | 0.1373069
6211393030 | 0.1233 | 0.1373069
6211393040 | 0.1233 | 0.1373069
6211393045 | 0.1233 | 0.1373069
6211393051 | 0.1233 | 0.1373069
6211398010 | 0.2466 | 0.2746138
6211398020 | 0.2466 | 0.2746138
6211398030 | 0.2466 | 0.2746138
6211398040 | 0.2466 | 0.2746138
6211398050 | 0.2466 | 0.2746138
6211398060 | 0.2466 | 0.2746138
6211398070 | 0.2466 | 0.2746138
6211398090 | 0.2466 | 0.2746138
6211420503 | 0.6412 | 0.7140403
6211420507 | 0.8016 | 0.8926618
6211420510 | 0.9865 | 1.0985664
6211420520 | 0.9865 | 1.0985664
6211420525 | 1.1099 | 1.2359846
6211420530 | 0.8632 | 0.9612595
6211420540 | 0.9865 | 1.0985664
6211420554 | 1.1099 | 1.2359846
6211420556 | 1.1099 | 1.2359846
6211420560 | 0.9865 | 1.0985664
6211420570 | 1.1099 | 1.2359846
6211420575 | 1.1099 | 1.2359846
6211420581 | 1.1099 | 1.2359846
6211421003 | 0.6412 | 0.7140403
6211421007 | 0.8016 | 0.8926618
6211421010 | 0.9865 | 1.0985664
6211421020 | 0.9865 | 1.0985664
6211421025 | 1.1099 | 1.2359846
6211421030 | 0.8632 | 0.9612595
6211421040 | 0.9865 | 1.0985664
6211421054 | 1.1099 | 1.2359846
6211421056 | 1.1099 | 1.2359846
6211421060 | 0.9865 | 1.0985664
6211421070 | 1.1099 | 1.2359846
6211421075 | 1.1099 | 1.2359846
6211421081 | 1.1099 | 1.2359846
6211430503 | 0.0987 | 0.1099123
6211430507 | 0.1233 | 0.1373069
6211430510 | 0.2466 | 0.2746138
6211430520 | 0.2466 | 0.2746138
6211430530 | 0.2466 | 0.2746138
6211430540 | 0.2466 | 0.2746138
6211430550 | 0.2466 | 0.2746138
6211430560 | 0.2466 | 0.2746138
6211430564 | 0.3083 | 0.3433229
6211430566 | 0.2466 | 0.2746138
6211430574 | 0.3083 | 0.3433229
6211430576 | 0.37 | 0.4120320
6211430578 | 0.37 | 0.4120320
6211430591 | 0.2466 | 0.2746138
6211431003 | 0.0987 | 0.1099123
6211431007 | 0.1233 | 0.1373069
6211431010 | 0.2466 | 0.2746138
6211431020 | 0.2466 | 0.2746138
6211431030 | 0.2466 | 0.2746138
6211431040 | 0.2466 | 0.2746138
6211431050 | 0.2466 | 0.2746138
6211431060 | 0.2466 | 0.2746138
6211431064 | 0.3083 | 0.3433229
6211431066 | 0.2466 | 0.2746138
6211431074 | 0.3083 | 0.3433229
6211431076 | 0.37 | 0.4120320
6211431078 | 0.37 | 0.4120320
6211431091 | 0.2466 | 0.2746138
6211492510 | 0.2466 | 0.2746138
6211492520 | 0.2466 | 0.2746138
6211492530 | 0.2466 | 0.2746138
6211492540 | 0.2466 | 0.2746138
6211492550 | 0.2466 | 0.2746138
6211492560 | 0.2466 | 0.2746138
6211492570 | 0.2466 | 0.2746138
6211492580 | 0.2466 | 0.2746138
6211492590 | 0.2466 | 0.2746138
6211498010 | 0.2466 | 0.2746138
6211498020 | 0.2466 | 0.2746138
6211498030 | 0.2466 | 0.2746138
6211498040 | 0.2466 | 0.2746138
6211498050 | 0.2466 | 0.2746138
6211498060 | 0.2466 | 0.2746138
6211498070 | 0.2466 | 0.2746138
6211498080 | 0.2466 | 0.2746138
6211498090 | 0.2466 | 0.2746138
6212105010 | 0.9138 | 1.0176077
6212105020 | 0.2285 | 0.2544576
6212105030 | 0.2285 | 0.2544576
6212109010 | 0.9138 | 1.0176077
6212109020 | 0.2285 | 0.2544576
6212109040 | 0.2285 | 0.2544576
6212200010 | 0.6854 | 0.7632614
6212200020 | 0.2856 | 0.3180442
6212200030 | 0.1142 | 0.1271731
6212300010 | 0.6854 | 0.7632614
6212300020 | 0.2856 | 0.3180442
6212300030 | 0.1142 | 0.1271731
6212900010 | 0.1828 | 0.2035661
6212900020 | 0.1828 | 0.2035661
6212900030 | 0.1828 | 0.2035661
6212900050 | 0.0914 | 0.1017830
6212900090 | 0.4112 | 0.4579123
6213201000 | 1.1187 | 1.2457843
6213202000 | 1.0069 | 1.1212838
6213900700 | 0.4475 | 0.4983360
6213901000 | 0.4475 | 0.4983360
6213902000 | 0.3356 | 0.3737242
6214300000 | 0.1142 | 0.1271731
6214400000 | 0.1142 | 0.1271731
6214900010 | 0.8567 | 0.9540211
6214900090 | 0.2285 | 0.2544576
6215100025 | 0.1142 | 0.1271731
6215200000 | 0.1142 | 0.1271731
6215900015 | 1.0281 | 1.1448922
6216000800 | 0.0685 | 0.0762816
6216001300 | 0.3427 | 0.3816307
6216001720 | 0.6397 | 0.7123699
6216001730 | 0.1599 | 0.1780646
6216001900 | 0.3427 | 0.3816307
6216002110 | 0.578 | 0.6436608
6216002120 | 0.2477 | 0.2758387
6216002410 | 0.6605 | 0.7355328
6216002425 | 0.1651 | 0.1838554
6216002600 | 0.1651 | 0.1838554
6216002910 | 0.6605 | 0.7355328
6216002925 | 0.1651 | 0.1838554
6216003100 | 0.1651 | 0.1838554
6216003300 | 0.5898 | 0.6568013
6216003500 | 0.5898 | 0.6568013
6216003800 | 1.1796 | 1.3136026
6216004100 | 1.1796 | 1.3136026
6217109510 | 0.9646 | 1.0741786
6217109520 | 0.1809 | 0.2014502
6217109530 | 0.2412 | 0.2686003
6217909003 | 0.9646 | 1.0741786
6217909005 | 0.1809 | 0.2014502
6217909010 | 0.2412 | 0.2686003
6217909025 | 0.9646 | 1.0741786
6217909030 | 0.1809 | 0.2014502
6217909035 | 0.2412 | 0.2686003
6217909050 | 0.9646 | 1.0741786
6217909055 | 0.1809 | 0.2014502
6217909060 | 0.2412 | 0.2686003
6217909075 | 0.9646 | 1.0741786
6217909080 | 0.1809 | 0.2014502
6217909085 | 0.2412 | 0.2686003
6301300010 | 0.8305 | 0.9248448
6301300020 | 0.8305 | 0.9248448
6301900030 | 0.2215 | 0.2466624
6302100005 | 1.1073 | 1.2330893
6302100008 | 1.1073 | 1.2330893
6302100015 | 1.1073 | 1.2330893
6302213010 | 1.1073 | 1.2330893
6302213020 | 1.1073 | 1.2330893
6302213030 | 1.1073 | 1.2330893
6302213040 | 1.1073 | 1.2330893
6302213050 | 1.1073 | 1.2330893
6302215010 | 0.7751 | 0.8631514
6302215020 | 0.7751 | 0.8631514
6302215030 | 0.7751 | 0.8631514
6302215040 | 0.7751 | 0.8631514
6302215050 | 0.7751 | 0.8631514
6302217010 | 1.1073 | 1.2330893
6302217020 | 1.1073 | 1.2330893
6302217030 | 1.1073 | 1.2330893
6302217040 | 1.1073 | 1.2330893
6302217050 | 1.1073 | 1.2330893
6302219010 | 0.7751 | 0.8631514
6302219020 | 0.7751 | 0.8631514
6302219030 | 0.7751 | 0.8631514
6302219040 | 0.7751 | 0.8631514
6302219050 | 0.7751 | 0.8631514
6302221010 | 0.5537 | 0.6166003
6302221020 | 0.3876 | 0.4316314
6302221030 | 0.5537 | 0.6166003
6302221040 | 0.3876 | 0.4316314
6302221050 | 0.3876 | 0.4316314
6302221060 | 0.3876 | 0.4316314
6302222010 | 0.3876 | 0.4316314
6302222020 | 0.3876 | 0.4316314
6302222030 | 0.3876 | 0.4316314
6302290020 | 0.2215 | 0.2466624
6302313010 | 1.1073 | 1.2330893
6302313020 | 1.1073 | 1.2330893
6302313030 | 1.1073 | 1.2330893
6302313040 | 1.1073 | 1.2330893
6302313050 | 1.1073 | 1.2330893
6302315010 | 0.7751 | 0.8631514
6302315020 | 0.7751 | 0.8631514
6302315030 | 0.7751 | 0.8631514
6302315040 | 0.7751 | 0.8631514
6302315050 | 0.7751 | 0.8631514
6302317010 | 1.1073 | 1.2330893
6302317020 | 1.1073 | 1.2330893
6302317030 | 1.1073 | 1.2330893
6302317040 | 1.1073 | 1.2330893
6302317050 | 1.1073 | 1.2330893
6302319010 | 0.7751 | 0.8631514
6302319020 | 0.7751 | 0.8631514
6302319030 | 0.7751 | 0.8631514
6302319040 | 0.7751 | 0.8631514
6302319050 | 0.7751 | 0.8631514
6302321010 | 0.5537 | 0.6166003
6302321020 | 0.3876 | 0.4316314
6302321030 | 0.5537 | 0.6166003
6302321040 | 0.3876 | 0.4316314
6302321050 | 0.3876 | 0.4316314
6302321060 | 0.3876 | 0.4316314
6302322010 | 0.5537 | 0.6166003
6302322020 | 0.3876 | 0.4316314
6302322030 | 0.5537 | 0.6166003
6302322040 | 0.3876 | 0.4316314
6302322050 | 0.3876 | 0.4316314
6302322060 | 0.3876 | 0.4316314
6302390030 | 0.2215 | 0.2466624
6302402010 | 0.9412 | 1.0481203
6302511000 | 0.5537 | 0.6166003
6302512000 | 0.8305 | 0.9248448
6302513000 | 0.5537 | 0.6166003
6302514000 | 0.7751 | 0.8631514
6302593020 | 0.5537 | 0.6166003
6302600010 | 1.1073 | 1.2330893
6302600020 | 0.9966 | 1.1098138
6302600030 | 0.9966 | 1.1098138
6302910005 | 0.9966 | 1.1098138
6302910015 | 1.1073 | 1.2330893
6302910025 | 0.9966 | 1.1098138
6302910035 | 0.9966 | 1.1098138
6302910045 | 0.9966 | 1.1098138
6302910050 | 0.9966 | 1.1098138
6302910060 | 0.9966 | 1.1098138
6302931000 | 0.4429 | 0.4932134
6302932000 | 0.4429 | 0.4932134
6302992000 | 0.2215 | 0.2466624
6303191100 | 0.8859 | 0.9865382
6303910010 | 0.609 | 0.6781824
6303910020 | 0.609 | 0.6781824
6303921000 | 0.2768 | 0.3082445
6303922010 | 0.2768 | 0.3082445
6303922030 | 0.2768 | 0.3082445
6303922050 | 0.2768 | 0.3082445
6303990010 | 0.2768 | 0.3082445
6304111000 | 0.9966 | 1.1098138
6304113000 | 0.1107 | 0.1232755
6304190500 | 0.9966 | 1.1098138
6304191000 | 1.1073 | 1.2330893
6304191500 | 0.3876 | 0.4316314
6304192000 | 0.3876 | 0.4316314
6304193060 | 0.2215 | 0.2466624
6304200020 | 0.8859 | 0.9865382
6304200070 | 0.2215 | 0.2466624
6304910120 | 0.8859 | 0.9865382
6304910170 | 0.2215 | 0.2466624
6304920000 | 0.8859 | 0.9865382
6304996040 | 0.2215 | 0.2466624
6505001515 | 1.1189 | 1.2460070
6505001525 | 0.5594 | 0.6229478
6505001540 | 1.1189 | 1.2460070
6505002030 | 0.9412 | 1.0481203
6505002060 | 0.9412 | 1.0481203
6505002545 | 0.5537 | 0.6166003
6507000000 | 0.3986 | 0.4438810
9404901000 | 0.2104 | 0.2343014
9404908020 | 0.9966 | 1.1098138
9404908040 | 0.9966 | 1.1098138
9404908505 | 0.6644 | 0.7398758
9404908536 | 0.0997 | 0.1110259
9404909505 | 0.6644 | 0.7398758
9404909570 | 0.2658 | 0.2959949
9619002100 | 0.8681 | 0.9667162
9619002500 | 0.1085 | 0.1208256
9619003100 | 0.9535 | 1.0618176
9619003300 | 1.1545 | 1.2856512
9619004100 | 0.2384 | 0.2654822
9619004300 | 0.2384 | 0.2654822
9619006100 | 0.8528 | 0.9496781
9619006400 | 0.2437 | 0.2713843
9619006800 | 0.3655 | 0.4070208
9619007100 | 1.1099 | 1.2359846
9619007400 | 0.2466 | 0.2746138
9619007800 | 0.2466 | 0.2746138
9619007900 | 0.2466 | 0.2746138

* * * * *

Authority: 7 U.S.C. 2101-2118.

Bruce Summers,
Administrator, Agricultural Marketing Service.

[FR Doc. 2021-18322 Filed 8-25-21; 8:45 am]

BILLING CODE P